DEPARTMENT OF COMMERCE

National Oceanic and Atmospheric Administration

50 CFR Part 229

[Docket No. 230907-0213]

RIN 0648-BM19

List of Fisheries for 2024

AGENCY: National Marine Fisheries Service (NMFS), National Oceanic and Atmospheric Administration (NOAA), Commerce.

ACTION: Proposed rule; request for comment.

SUMMARY: The NMFS publishes its proposed List of Fisheries (LOF) for 2024, as required by the Marine Mammal Protection Act (MMPA). The LOF for 2024 reflects new information on interactions between commercial fisheries and marine mammals. NMFS must classify each commercial fishery on the LOF into one of three categories under the MMPA based upon the level of mortality and serious injury of marine mammals that occurs incidental to each fishery. The classification of a fishery on the LOF determines whether participants in that fishery are subject to certain provisions of the MMPA, such as those on registration, observer coverage, and take reduction plan (TRP) requirements.

DATES: Comments must be received by October 13, 2023.

ADDRESSES: You may submit comments on this document, identified by NOAA-NMFS-2023-0042, by either of the following methods:

Electronic Submission: Submit all electronic public comments via the Federal e-Rulemaking Portal. Go to https://www.regulations.gov and enter NOAA-NMFS-2023-0042 in the Search box. Click on the “Comment” icon, complete the required fields, and enter or attach your comments.

Mail: Chief, Marine Mammal and Sea Turtle Conservation Division, Office of Protected Resources, NMFS, 1315 East-West Highway, Silver Spring, MD 20910.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter N/A in the required fields if you wish to remain anonymous).

FOR FURTHER INFORMATION CONTACT: Jaclyn Taylor, Office of Protected Resources, 301-427-8402; Cheryl Cross, Greater Atlantic Region, 978-281-9100; Jessica Powell, Southeast Region, 727-824-5312; Dan Lawson, West Coast Region, 206-526-4740; Suzie Teerlink, Alaska Region, 907-586-7240; Elena Duke, Pacific Islands Region, 808-725-5085. Individuals who use a telecommunications device for the hearing impaired may call the Federal Information Relay Service at 1-800-877-8339 between 8 a.m. and 4 p.m. Eastern time, Monday through Friday, excluding Federal holidays.

SUPPLEMENTARY INFORMATION:

What is the List of Fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as those on registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock, while allowing that stock to reach or maintain its optimum sustainable population. This definition can also be found in the implementing regulations for section 118 of the MMPA (50 CFR 229.2).

Tier 1: Tier 1 considers the cumulative fishery mortality and serious injury for a particular stock. If the total annual mortality and serious injury of a marine mammal stock, across all fisheries, is less than or equal to 10 percent of the PBR level of the stock, all fisheries interacting with the stock will be placed in Category III (unless those fisheries interact with other stock(s) for which total annual mortality and serious injury is greater than 10 percent of PBR). Otherwise, these fisheries are subject to the next tier (Tier 2) of analysis to determine their classification.

Tier 2: Tier 2 considers fishery-specific mortality and serious injury for a particular stock.

Category I: Annual mortality and serious injury of a stock in a given fishery is greater than or equal to 50 percent of the PBR level (i.e., frequent incidental mortality and serious injury of marine mammals).

Category II: Annual mortality and serious injury of a stock in a given fishery is greater than 1 percent and less than 50 percent of the PBR level (i.e., occasional incidental mortality and serious injury of marine mammals).

Category III: Annual mortality and serious injury of a stock in a given fishery is less than or equal to 1 percent of the PBR level (i.e., a remote likelihood of or no known incidental mortality and serious injury of marine mammals).

Additional details regarding how the categories were determined are provided in the preamble to the final rule implementing section 118 of the MMPA (60 FR 45086, August 30, 1995).

Because fisheries are classified on a per-stock basis, a fishery may qualify as one category for one marine mammal stock and another category for a different marine mammal stock. A fishery is typically classified on the LOF at its highest level of classification (e.g., a fishery qualifying for Category III for one marine mammal stock and for Category II for another marine mammal stock will be listed under Category II). Stocks driving a fishery's classification are denoted with a superscript “1” in tables 1 and 2.

Other Criteria That May Be Considered

The tier analysis requires a minimum amount of data, and NMFS does not have sufficient data to perform a tier analysis on certain fisheries. Therefore, NMFS has classified certain fisheries by analogy to other fisheries that use similar fishing techniques or gear that are known to cause mortality or serious injury of marine mammals, or according to factors discussed in the final LOF for 1996 (60 FR 67063, December 28, 1995) and listed in the regulatory definition of a Category II fishery. In the absence of reliable information indicating the frequency of incidental mortality and serious injury of marine mammals by a commercial fishery, NMFS will determine whether the incidental mortality or serious injury is “occasional” by evaluating other factors such as fishing techniques, gear used, methods used to deter marine mammals, target species, seasons and areas fished, qualitative data from logbooks or fishermen reports, stranding data, and the species and distribution of marine mammals in the area, or at the discretion of the Assistant Administrator for Fisheries (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and List of Species and/or Stocks Incidentally Killed or Injured in the Atlantic Ocean, Gulf of Mexico, and Caribbean sections. To determine which species or stocks are included as incidentally killed or injured in a fishery, NMFS annually reviews the information presented in the current SARs and injury determination reports. SARs are brief reports summarizing the status of each stock of marine mammals occurring in waters under U.S. jurisdiction, including information on the identity and geographic range of the stock, population statistics related to abundance, trend, and annual productivity, notable habitat concerns, and estimates of human-caused mortality and serious injury (M/SI) by source. The SARs are based upon the best available scientific information and provide the most current and inclusive information on each stock's PBR level and level of interaction with commercial fishing operations. The best available scientific information used in the SARs and reviewed for the 2024 LOF generally summarizes data from 2016-2020. NMFS also reviews other sources of new information, including injury determination reports, bycatch estimation reports, observer data, logbook data, stranding data, disentanglement network data, fishermen self-reports (i.e., MMPA mortality/injury reports), and anecdotal reports from that time period. In some cases, more recent information may be available and used in the LOF.

For fisheries with observer coverage, species or stocks are generally removed from the list of marine mammal species and/or stocks incidentally killed or injured if no interactions are documented in the five-year timeframe summarized in that year's LOF. For fisheries with no observer coverage and for observed fisheries with evidence indicating that undocumented interactions may be occurring (e.g., fishery has low observer coverage and stranding network data include evidence of fisheries interactions that cannot be attributed to a specific fishery), species and stocks may be retained for longer than five years. For these fisheries, NMFS will review the other sources of information listed above and use its discretion to decide when it is appropriate to remove a species or stock.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each Pacific and Alaska SAR includes an appendix with detailed descriptions of each Category I and II fishery on the LOF, including the observer coverage in those fisheries. For Atlantic fisheries, this information can be found in the LOF Fishery Fact Sheets. The SARs do not provide detailed information on observer coverage in Category III fisheries because, under the MMPA, Category III fisheries are not required to accommodate observers aboard vessels due to the remote likelihood of mortality and serious injury of marine mammals. Fishery information presented in the SARs' appendices and other resources referenced during the tier analysis may include: level of observer coverage; target species; levels of fishing effort; spatial and temporal distribution of fishing effort; characteristics of fishing gear and operations; management and regulations; and interactions with marine mammals. Copies of the SARs are available on the NMFS Office of Protected Resources website at: https://www.fisheries.noaa.gov/national/marine-mammal-protection/marine-mammal-stock-assessment-reports-region. Information on observer coverage levels in Category I, II, and III fisheries can be found in the fishery fact sheets on the NMFS Office of Protected Resources' website: https://www.fisheries.noaa.gov/national/marine-mammal-protection/list-fisheries-summary-tables. Additional information on observer programs in commercial fisheries can be found on the NMFS National Observer Program's website: https://www.fisheries.noaa.gov/national/fisheries-observers/national-observer-program.

How do I find out if a specific fishery is in Category I, II, or III?

The LOF includes three tables that list all U.S. commercial fisheries by Category. table 1 lists all of the commercial fisheries in the Pacific Ocean (including Alaska); table 2 lists all of the commercial fisheries in the Atlantic Ocean, Gulf of Mexico, and Caribbean; and table 3 lists all U.S. authorized commercial fisheries on the high seas. A fourth table, table 4, lists all commercial fisheries managed under applicable TRPs or take reduction teams (TRT).

Are high seas fisheries included on the LOF?

Beginning with the 2009 LOF, NMFS includes high seas fisheries in table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in tables 1 and 2 and those in table 3. In these cases, the high seas component of the fishery is not considered a separate fishery, but an extension of a fishery operating within U.S. waters (listed in table 1 or 2). NMFS designates those fisheries in tables 1, 2, and 3 with an asterisk (*) after the fishery's name. The number of HSFCA permits listed in table 3 for the high seas components of these fisheries operating in U.S. waters does not necessarily represent additional effort that is not accounted for in tables 1 and 2. Many vessels/participants holding HSFCA permits also fish within U.S. waters and are included in the number of vessels and participants operating within those fisheries in tables 1 and 2.

HSFCA permits are valid for 5 years, during which time Fishery Management Plans (FMPs) can change. Therefore, some vessels/participants may possess valid HSFCA permits without the ability to fish under the permit because it was issued for a gear type that is no longer authorized under the most current FMP. For this reason, the number of HSFCA permits displayed in table 3 is likely higher than the actual U.S. fishing effort on the high seas. For more information on how NMFS classifies high seas fisheries on the LOF, see the preamble text in the final 2009 LOF (73 FR 73032, December 1, 2008). Additional information about HSFCA permits can be found at https://www.fisheries.noaa.gov/permit/high-seas-fishing-permits.

Where can I find specific information on fisheries listed on the LOF?

Starting with the 2010 LOF, NMFS developed summary documents, or fishery fact sheets, for each Category I and II fishery on the LOF. These fishery fact sheets provide the full history of each Category I and II fishery, including: (1) when the fishery was added to the LOF; (2) the basis for the fishery's initial classification; (3) classification changes to the fishery; (4) changes to the list of species and/or stocks incidentally killed or injured in the fishery; (5) fishery gear and methods used; (6) observer coverage levels; (7) fishery management and regulation; and (8) applicable TRPs or TRTs, if any. These fishery fact sheets are updated after each final LOF and can be found under “How Do I Find Out if a Specific Fishery is in Category I, II, or III?” on the NMFS Office of Protected Resources' website: https://www.fisheries.noaa.gov/national/marine-mammal-protection/marine-mammal-protection-act-list-fisheries, linked to the “List of Fisheries Summary” table. NMFS is developing similar fishery fact sheets for each Category III fishery on the LOF. However, due to the large number of Category III fisheries on the LOF and the lack of accessible and detailed information on many of these fisheries, the development of these fishery fact sheets is taking significant time to complete. NMFS began posting Category III fishery fact sheets online with the LOF for 2016.

Am I required to register under the MMPA?

Owners of vessels or gear engaging in a Category I or II fishery are required under the MMPA (16 U.S.C. 1387(c)(2)), as described in 50 CFR 229.4, to register with NMFS and obtain a marine mammal authorization to lawfully take marine mammals incidental to commercial fishing operations. The take of threatened or endangered marine mammals requires an additional authorization. Owners of vessels or gear engaged in a Category III fishery are not required to register with NMFS or obtain a marine mammal authorization.

How do I register, renew and receive my Marine Mammal Authorization Program authorization certificate?

NMFS has integrated the MMPA registration process, implemented through the Marine Mammal Authorization Program (MMAP), with existing state and Federal fishery license, registration, or permit systems for Category I and II fisheries on the LOF. Participants in these fisheries are automatically registered under the MMAP and are not required to submit registration or renewal materials.

In the Pacific Islands, West Coast, and Alaska regions, NMFS will issue vessel or gear owners an authorization certificate via U.S. mail or with their state or Federal license or permit at the time of issuance or renewal. In the Southeast Region, NMFS will issue vessel or gear owners an authorization certificate via U.S. mail automatically at the beginning of each calendar year. In the Greater Atlantic Region, NMFS will issue vessel or gear owners an authorization certificate electronically. The certificate can be downloaded and/or printed at: https://www.fisheries.noaa.gov/national/marine-mammal-protection/marine-mammal-authorization-program#obtaining-a-marine-mammal-authorization-certificate. Printed copies can be mailed upon request by contacting nmfs.gar.mmapcert@noaa.gov or 978-281-9120.

Vessel or gear owners who participate in fisheries in these regions and have not received authorization certificates by the beginning of the calendar year, or with renewed fishing licenses, must contact the appropriate NMFS Regional Office (see FOR FURTHER INFORMATION CONTACT). Authorization certificates may also be obtained by visiting the MMAP website https://www.fisheries.noaa.gov/national/marine-mammal-protection/marine-mammal-authorization-program#obtaining-a-marine-mammal-authorization-certificate.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal license or permit systems distinguish between fisheries as classified by the LOF. Therefore, some vessel or gear owners in Category III fisheries may receive authorization certificates even though they are not required for Category III fisheries.

Individuals fishing in Category I and II fisheries for which no state or Federal license or permit is required must register with NMFS by contacting their appropriate Regional Office (see ADDRESSES).

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF must report to NMFS all incidental mortalities and injuries of marine mammals that occur during commercial fishing operations, regardless of the category in which the fishery is placed (I, II, or III) within 48 hours of the end of the fishing trip or, in the case of non-vessel fisheries, fishing activity. “Injury” is defined in 50 CFR 229.2 as a wound or other physical harm. In addition, any animal that ingests fishing gear or any animal that is released with fishing gear entangling, trailing, or perforating any part of the body is considered injured, regardless of the presence of any wound or other evidence of injury, and must be reported.

Mortality/injury reporting forms and instructions for submitting forms to NMFS can be found at: https://www.fisheries.noaa.gov/national/marine-mammal-protection/marine-mammal-authorization-program#reporting-a-death-or-injury-of-a-marine-mammal-during-commercial-fishing-operations or by contacting the appropriate regional office (see FOR FURTHER INFORMATION CONTACT). Forms may be submitted via any of the following means: (1) online using the electronic form; (2) emailed as an attachment to nmfs.mireport@noaa.gov; (3) faxed to the NMFS Office of Protected Resources at 301-713-0376; or (4) mailed to the NMFS Office of Protected Resources (mailing address is provided on the postage-paid form that can be printed from the web address listed above). Reporting requirements and procedures are found in 50 CFR 229.6.

Am I required to take an observer aboard my vessel?

Individuals participating in a Category I or II fishery are required to accommodate an observer aboard their vessel(s) upon request from NMFS. MMPA section 118 states that the Secretary is not required to place an observer on a vessel if the facilities for quartering an observer or performing observer functions are so inadequate or unsafe that the health or safety of the observer or the safe operation of the vessel would be jeopardized; thereby authorizing the exemption of vessels too small to safely accommodate an observer from this requirement. Observer requirements are found in 50 CFR 229.7.

Am I required to comply with any marine mammal TRP regulations?

Table 4 provides a list of fisheries affected by TRPs and TRTs. TRP regulations are found at 50 CFR 229.30 through 229.37. A description of each TRT and copies of each TRP can be found at: https://www.fisheries.noaa.gov/national/marine-mammal-protection/marine-mammal-take-reduction-plans-and-teams. It is the responsibility of fishery participants to comply with applicable take reduction regulations.

Where can I find more information about the LOF and the MMAP?

Information regarding the LOF and the MMAP, including registration procedures and forms; current and past LOFs; descriptions of each Category I and II fishery and some Category III fisheries; observer requirements; and marine mammal mortality/injury reporting forms and submittal procedures; may be obtained at: https://www.fisheries.noaa.gov/national/marine-mammal-protection/marine-mammal-protection-act-list-fisheries, or from any NMFS Regional Office at the addresses listed below:

NMFS, Greater Atlantic Regional Fisheries Office, 55 Great Republic Drive, Gloucester, MA 01930-2298, Attn: Cheryl Cross;

NMFS, Southeast Region, 263 13th Avenue South, St. Petersburg, FL 33701, Attn: Jessica Powell;

NMFS, West Coast Region, Long Beach Office, 501 W Ocean Blvd., Suite 4200, Long Beach, CA 90802-4213, Attn: Dan Lawson;

NMFS, Alaska Region, Protected Resources, P.O. Box 22668, 709 West 9th Street, Juneau, AK 99802, Attn: Suzie Teerlink; or

NMFS, Pacific Islands Regional Office, Protected Resources Division, 1845 Wasp Blvd., Building 176, Honolulu, HI 96818, Attn: Elena Duke.

Sources of Information Reviewed for the 2024 LOF

NMFS reviewed the marine mammal incidental mortality and serious injury information presented in the SARs for all fisheries to determine whether changes in fishery classification are warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were established by the MMPA to review the science that informs the SARs, and to advise NMFS on marine mammal population status, trends, and stock structure; uncertainties in the science, research needs, and other issues.

NMFS also reviewed other sources of new information, including marine mammal stranding and entanglement data, observer program data, fishermen self-reports, reports to the SRGs, conference papers, FMPs, and ESA documents.

The LOF for 2024 was based on, among other things, stranding data; fishermen self-reports; and SARs, primarily the 2022 SARs, which are based on data from 2016-2020. The SARs referenced in this LOF include: 2021 (87 FR 47385, August 3, 2022) and 2022 (88 FR 54592, August 11, 2023). The SARs are available at: https://www.fisheries.noaa.gov/national/marine-mammal-protection/marine-mammal-stock-assessment-reports-region.

Request for Public Input on Aquaculture Fishery Descriptions

As information on risks to marine mammals from aquaculture remains limited, NMFS is soliciting public comment to inform how we evaluate the potential risk to marine mammals from aquaculture operations for future LOFs. Specifically, we are requesting information on the following in both state and Federal waters in the Atlantic, Caribbean and Pacific:

1. Incidences of marine mammal interactions with aquaculture gear, including details of where and when these interactions occurred, the gear type(s) involved, and whether or not mortality and/or injury occurred.

2. Gear characteristics, operational practices used (e.g., anchoring systems, deterrence technologies to avoid interactions), and temporal and spatial variation in aquaculture operations.

3. Practical ways of grouping different aquaculture gears into a single fishery, such as grouping according to regional differences and/or operational and/or gear characteristics (e.g., if similar gears are used to farm shellfish and macroalgae, both target species should be listed under the same fishery).

4. How integrated multi-trophic aquaculture (the cooperative cultivation of multiple organisms occupying different trophic levels) should be characterized. For example, whether multi-trophic aquaculture should be classified holistically as a separate fishery, or by the gear type that presents the highest risk amongst the gear types that are being used.

Summary of Changes to the LOF for 2024

The following summarizes changes to the LOF for 2024, including the classification of fisheries, fisheries listed, the estimated number of vessels/persons in a particular fishery, and the species and/or stocks that are incidentally killed or injured in a particular fishery. In the 2022 Pacific and Alaska SARs, stock structure for humpback whales and the Southeast Alaska harbor porpoise were revised, respectively. The three existing North Pacific humpback whale stocks (Central North Pacific, Western North Pacific and CA/OR/WA) were replaced by five stocks: (1) Western North Pacific, (2) Hawai'i, (3) Mexico-North Pacific, (4) Central America/Southern Mexico CA/OR/WA and (5) Mainland Mexico-CA/OR/WA (Young et al., 2023, Carretta et al., 2023). The Southeast Alaska harbor porpoise stock was revised and split into three stocks: (1) the Northern Southeast Alaska inland waters, (2) Southern Southeast Alaska inland waters, and (3) Yakutat/Southeast Alaska offshore waters (Young et al., 2023). Changes to the LOF for 2024 based on these revised stock structures are summarized below.

NMFS adds one fishery, removes six fisheries and reclassifies four fisheries in the LOF for 2024. NMFS also makes changes to the estimated number of vessels/persons and list of species and/or stocks killed or injured in certain fisheries. The classifications and definitions of U.S. commercial fisheries for 2024 are identical to those provided in the LOF for 2023, except for the changes discussed below. State and regional abbreviations used in the following paragraphs include: AK (Alaska), CA (California), FL (Florida), GA (Georgia), HI (Hawaii), NC (North Carolina), OR (Oregon), SC (South Carolina), WA (Washington) and WNA (Western North Atlantic).

Commercial Fisheries in the Pacific Ocean

Classification of Fisheries

NMFS proposes to reclassify the Category II AK Southeast salmon drift gillnet fishery to a Category I fishery based on M/SI of the Southern Southeast Alaska inland waters stock of harbor porpoise. Mean annual estimated M/SI of the Southern Southeast Alaska inland waters stock of harbor porpoise in the AK Southeast salmon drift gillnet fishery is 7.4 which is 121 percent of the stock's PBR (6.1) (Young et al., 2023). Therefore, because the estimated M/SI is greater than or equal to 50 percent of PBR (Tier 2 analysis), NMFS proposes to reclassify the AK Southeast salmon drift gillnet fishery from a Category II to a Category I fishery.

NMFS proposes to reclassify the Category II CA Dungeness crab pot fishery to a Category I fishery based on M/SI of the Central America/Southern Mexico-CA/OR/WA stock of humpback whale. Mean annual estimated M/SI of the Central America/Southern Mexico-CA/OR/WA stock of humpback whale is 2.01 which is 57 percent of the stock's PBR (3.5 whales) (Carretta et al., 2023). Therefore, because the estimated M/SI is greater than or equal to 50 percent of PBR, NMFS proposes to reclassify the CA Dungeness crab pot fishery from a Category II to a Category I fishery.

NMFS proposes to reclassify the Category II AK Bering Sea, Aleutian Islands Pacific cod pot fishery to a Category III fishery. The Category II classification of this fishery was based on the mean annual estimated M/SI of the Western North Pacific stock of humpback whale. Total annual fishery M/SI for the Western North Pacific stock of humpback whale is 0.012 and PBR for the stock is 0.2 (Young et al., 2023). A Tier 1 analysis indicates total annual M/SI for the Western North Pacific stock of humpback whale is six percent of PBR. Therefore, since total cumulative fishery M/SI is less than 10 percent for the Western North Pacific stock of humpback whale and no other stocks are driving the Category II classification of this fishery, NMFS proposes to reclassify the AK Bering Sea, Aleutian Islands Pacific cod pot fishery to a Category III fishery.

Fishery Name and Organizational Changes and Clarification

NMFS proposes to combine the Category III AK Dungeness crab fishery with the Category III AK miscellaneous invertebrates handpick fishery. These two fisheries are prosecuted in the same way and generally at the same time.

NMFS proposes to remove the Category III AK roe herring and food/bait herring beach seine fishery from the LOF because there are no participants in this fishery.

NMFS proposes to remove the Category III AK state-managed waters of Prince William Sound groundfish trawl fishery. This fishery is included in the Category III AK Gulf of Alaska trawl fisheries.

NMFS proposes to remove the Category III AK Bering Sea, Aleutian Islands groundfish hand troll and dinglebar troll fishery from the LOF because there are no participants in this fishery.

NMFS proposes to remove the Category III AK herring spawn on kelp dive hand/mechanical collection fishery from the LOF because there are no participants in this fishery.

NMFS proposes to add the superscript “1” to the southern Southeast Alaska inland waters stocks of harbor porpoise to indicate the stock is driving the Category I classification of the AK Southeast salmon drift gillnet fishery.

NMFS proposes to add the superscript “1” to the Central America/Southern Mexico-CA/OR/WA stocks of humpback whale to indicate the stock is driving the Category I classification of the CA Dungeness crab pot fishery. NMFS also proposes to remove the superscript “1” from Eastern North Pacific stock of blue whale to indicate the stock is not driving the Category I classification of the CA Dungeness crab pot fishery.

NMFS proposes to remove the superscript “1” from the CA/OR/WA stock of minke whale to indicate the stock is no longer driving the Category II classification of the CA thresher shark/swordfish drift gillnet (≥14 inch (in) mesh) fishery.

NMFS proposes to add the superscript “1” to the Central America/Southern Mexico-CA/OR/WA stock of humpback whale to indicate the stock is driving the Category II classification of the CA halibut/white seabass and other species set gillnet (>3.5 in mesh) fishery.

NMFS proposes to add the superscript “2” to the Category II AK Cook Inlet salmon set gillnet fishery to indicate this fishery is classified by analogy. This fishery was originally classified by analogy to other Category II Alaska gillnet fisheries on the 1996 LOF (60 FR 67063, December 28, 1995).

NMFS proposes to remove the superscript “2” from the Category II AK Yakutat salmon set gillnet fishery to indicate this fishery is not classified by analogy to other Category II gillnet fisheries. Alaska marine mammal observer program (AMMOP) bycatch data is used to estimate incidental M/SI in this fishery. NMFS also proposes to add the superscript “1” to the Yakutat/Southeast Alaska offshore waters stock of harbor porpoise to indicate the stock is driving the Category II classification of the AK Yakutat salmon set gillnet fishery.

NMFS proposes to remove the superscript “1” from both the Eastern North Pacific Alaska resident stock of killer whale and Western North Pacific stock of humpback whale to indicate the stocks are no longer driving the Category II classification of the AK Bering Sea, Aleutian Islands flatfish trawl fishery.

NMFS proposes to add the superscript “1” to the Central America/Southern Mexico-CA/OR/WA stock of humpback whale to indicate the stock is driving the Category II classification of the CA coonstripe shrimp pot fishery.

NMFS proposes to add the superscript “1” to the Central America/Southern Mexico-CA/OR/WA stock of humpback whale to indicate the stock is driving the Category II classification of the CA spiny lobster fishery.

NMFS proposes to add the superscript “1” to the Central America/Southern Mexico-CA/OR/WA stock of humpback whale to indicate the stock is driving the Category II classification of the CA spot prawn pot fishery.

NMFS proposes to add the superscript “1” to the Central America/Southern Mexico-CA/OR/WA stock of humpback whale to indicate the stock is driving the Category II classification of the OR Dungeness crab pot fishery.

NMFS proposes to add the superscript “1” to both the Central America/Southern Mexico-CA/OR/WA and Mainland Mexico-CA/OR/WA stocks of humpback whale to indicate the stocks are driving the Category II classification of the WA/OR/CA sablefish pot fishery.

NMFS proposes to add the superscript “1” to the Central America/Southern Mexico-CA/OR/WA stock of humpback whale to indicate the stock is driving the Category II classification of the WA coastal Dungeness crab pot fishery.

NMFS proposes to add the superscript “1” to the North Pacific stock of sperm whale to indicate the stock is driving the Category II classification of the AK Gulf of Alaska sablefish longline fishery.

Number of Vessels/Persons

NMFS proposes to update the estimated number of vessels/persons in the Pacific Ocean (table 1) as follows:

Category I

• HI deep-set longline fishery from 150 to 146 vessels/persons;

• AK Southeast salmon drift gillnet fishery from 474 to 371 vessels/persons;

Category II

• AK Bristol Bay salmon drift gillnet fishery from 1,862 to 1,521 vessels/persons;

• AK Bristol Bay salmon set gillnet fishery from 979 to 855 vessels/persons;

• AK Kodiak salmon set gillnet fishery from 188 to 128 vessels/persons;

• AK Cook Inlet salmon set gillnet fishery from 736 to 479 vessels/persons;

• AK Cook Inlet salmon drift gillnet fishery from 569 to 355 vessels/persons;

• AK Peninsula/Aleutian Islands salmon drift gillnet fishery from 162 to 148 vessels/persons;

• AK Peninsula/Aleutian Islands salmon set gillnet fishery from 113 to 75 vessels/persons;

• AK Prince William Sound salmon drift gillnet fishery from 537 to 483 vessels/persons;

• AK Yakutat salmon set gillnet fishery from 168 to 95 vessels/persons;

• AK Bering Sea, Aleutian Islands flatfish trawl fishery from 32 to 29 vessels/persons;

• AK Bering Sea, Aleutian Islands pollock trawl fishery from 102 to 116 vessels/persons;

• AK Gulf of Alaska sablefish longline fishery from 295 to 177 vessels/persons;

• American Samoa longline fishery from 18 to 11 vessels/persons;

• HI shortline fishery from 11 to 8 vessels/persons;

Category III

• AK Kuskokwim, Yukon, Norton Sound, Kotzebue salmon gillnet fishery from 1,778 to 360 vessels/persons;

• AK Prince William Sound salmon set gillnet fishery from 29 to 25 vessels/persons;

• AK roe herring and food/bait herring gillnet fishery from 920 to 15 vessels/persons;

• HI inshore gillnet fishery form 27 to 26 vessels/persons;

• AK Cook Inlet salmon purse seine fishery from 83 to 16 vessels/persons;

• AK Kodiak salmon purse seine fishery from 376 to 159 vessels/persons;

• AK Southeast salmon purse seine fishery from 315 to 206 vessels/persons;

• AK roe herring and food/bait herring purse seine fishery from 356 to 31 vessels/persons;

• AK salmon beach seine fishery from 31 to 2 vessels/persons;

• AK salmon purse seine (Prince William Sound, Chignik, Alaska Peninsula) fishery from 936 to 298 vessels/persons;

• HI throw net, cast net fishery from 16 to 13 vessels/persons;

• HI seine net fishery from 16 to 17 vessels/persons;

• AK Gulf of Alaska groundfish hand troll and dinglebar troll fishery from unknown to 4 vessels/persons;

• AK salmon troll fishery from 1,908 to 850 vessels/persons;

• American Samoa tuna troll fishery from 3 to 6 vessels/persons;

• HI troll fishery from 1,293 to 1,124 vessels/persons;

• HI rod and reel fishery from 246 to 235 vessels/persons;

• Guam tuna troll fishery from 465 to 450 vessels/persons;

• AK Bering Sea, Aleutian Islands Pacific cod longline fishery from 45 to 26 vessels/persons;

• AK Bering Sea, Aleutian Islands sablefish longline fishery from 22 to 8 vessels/persons;

• AK Bering Sea, Aleutian Islands halibut longline fishery from 127 to 84 vessels/persons;

• AK Gulf of Alaska halibut longline fishery from 855 to 689 vessels/persons;

• AK Gulf of Alaska Pacific cod longline fishery from 92 to 23 vessels/persons;

• AK octopus/squid longline fishery from 3 to 0 vessels/persons;

• HI kaka line fishery from 16 to 17 vessels/persons;

• HI vertical line fishery from 5 to 6 vessels/persons;

• AK Bering Sea, Aleutian Islands Atka mackerel trawl fishery from 13 to 17 vessels/persons;

• AK Bering Sea, Aleutian Islands Pacific cod trawl fishery from 72 to 64 vessels/persons;

• AK Bering Sea, Aleutian Islands rockfish trawl fishery from 17 to 22 vessels/persons;

• AK Gulf of Alaska flatfish trawl fishery from 36 to 16 vessels/persons;

• AK Gulf of Alaska Pacific cod trawl fishery from 55 to 12 vessels/persons;

• AK Gulf of Alaska pollock trawl fishery from 67 to 60 vessels/persons;

• AK Gulf of Alaska rockfish trawl fishery from 43 to 35 vessels/persons;

• AK Kodiak food/bait herring otter trawl fishery from 4 to 0 vessels/persons;

• AK shrimp otter trawl and beam trawl fishery from 38 to 12 vessels/persons;

• AK Bering Sea, Aleutian Islands Pacific cod pot fishery from 59 to 80 vessels/persons;

• AK Bering Sea, Aleutian Islands sablefish pot fishery from 16 to 15 vessels/persons;

• AK Bering Sea, Aleutian Islands crab pot fishery from 540 to 73 vessels/persons;

• AK Gulf of Alaska crab pot fishery from 271 to 86 vessels/persons;

• AK Gulf of Alaska Pacific cod pot fishery from 116 to 48 vessels/persons;

• AK Gulf of Alaska sablefish pot fishery from 248 to 129 vessels/persons;

• AK Southeast Alaska shrimp pot fishery from 99 to 104 vessels/persons;

• AK shrimp pot, except Southeast fishery from 141 to 77 vessels/persons;

• AK octopus/squid pot fishery from 15 to 0 vessels/persons;

• HI crab trap fishery from 3 to 4 vessels/persons;

• HI crab net fishery from 3 to 4 vessels/persons;

• HI Kona crab loop net fishery from 24 to 13 vessels/persons;

• American Samoa bottomfish fishery from 46 to 44 vessels/persons;

• Commonwealth of the Northern Mariana Islands bottomfish fishery from 12 to 7 vessels/persons;

• Guam bottomfish fishery from 84 to 63 vessels/persons;

• HI bottomfish handline fishery from 404 to 382 vessels/persons;

• HI inshore handline fishery from 182 to 158 vessels/persons;

• HI pelagic handline fishery from 311 to 271 vessels/persons;

• AK Gulf of Alaska groundfish jig fishery from 214 to 68 vessels/persons;

• AK halibut jig fishery from 71 to 5 vessels/persons;

• AK herring spawn on kelp pound net fishery from 291 to 143 vessels/persons;

• AK Southeast herring roe/food/bait pound net fishery from 2 to 1 vessels/persons;

• AK clam fishery from 130 to 57 vessels/persons;

• AK miscellaneous invertebrates handpick fishery from 214 to 188 vessels/persons;

• HI black coral diving fishery from less than 3 to none recorded;

• HI handpick fishery from 28 to 25 vessels/persons;

• HI lobster diving fishery from 10 to 12 vessels/persons;

• HI spearfishing fishery from 79 to 67 vessels/persons, and

• HI aquarium collecting fishery from 39 to none recorded.

List of Species and/or Stocks Incidentally Killed or Injured in the Pacific Ocean

NMFS proposes to add the Beringia stock of bearded seal to the list of species/stocks incidentally killed or injured in the Category II AK Bering Sea, Aleutian Islands pollock trawl fishery based on an observed mortality in 2020 (Freed et al., 2022).

NMFS proposes to add the U.S. stock of California sea lion to the list of species/stocks incidentally killed or injured in the Category III CA sea cucumber trawl fishery based on an observed mortality in 2019 (Carretta et al., In Review).

NMFS proposes to remove the Hawaii stock of striped dolphin from the list of species/stocks incidentally killed or injured in the Category I HI deep-set longline fishery. This fishery is consistently monitored through an observer program. From 2016-2020, there have been no reported or observed M/SI within the EEZ in the HI deep-set longline fishery (Carretta et al., 2023).

NMFS proposes to remove the Hawaii stock of fin whale and Central North Pacific stock of humpback whale from the list of species/stocks incidentally killed or injured in the Category II HI shallow-set longline fishery. This fishery has 100 percent observer coverage, and from 2016-2020, there have been no reported or observed M/SI within the EEZ in the HI shallow-set longline fishery (Carretta et al., 2023).

NMFS proposes to revise marine mammal stock names on the list of species/stocks incidentally killed or injured for consistency with the current stock names in the SARs as follows:

Category II AK Bristol Bay Salmon Drift Gillnet Fishery

• Harbor seal, Bering Sea to harbor seal, Bristol Bay; and

Category II AK Gulf of Alaska Sablefish Longline

• Northern elephant seal, California to Northern elephant seal, California breeding.

NMFS proposes to update the harbor porpoise stocks on the list of species/stocks incidentally killed or injured based on the revised stock structures in the 2022 SAR (Young et al., 2023) as follows:

Category I AK Southeast Salmon Drift Gillnet Fishery

• Harbor porpoise, southeast Alaska to harbor porpoise, southern Southeast Alaska inland waters and harbor porpoise, northern Southeast Alaska inland waters, and

Category II AK Yakutat Salmon Set Gillnet Fishery

• Harbor porpoise, southeast Alaska to harbor porpoise, Yakutat/Southeast Alaska offshore waters.

NMFS proposes to update the humpback whale stocks on the list of species/stocks incidentally killed or injured based on the revised stock structures in the 2022 SAR (Carretta et al., 2023; Young et al., 2023) as follows:

Category I AK Southeast Salmon Drift Gillnet Fishery

• Humpback whale, Central North Pacific to humpback whale, Hawai'i and humpback whale, Mexico-North Pacific;

Category II CA Thresher Shark/Swordfish Drift Gillnet (≥14 in Mesh) Fishery

• Humpback whale, CA/OR/WA to humpback whale, Central America/Southern Mexico-CA/OR/WA and humpback whale, Mainland Mexico-CA/OR/WA stock;

Category II CA Halibut/White Seabass and Other Species Set Gillnet (>3.5 in Mesh) Fishery

• Humpback whale, CA/OR/WA to humpback whale, Central America/Southern Mexico-CA/OR/WA and humpback whale, Mainland Mexico-CA/OR/WA stock;

Category II AK Kodiak Salmon Set Gillnet Fishery

• Humpback whale, Central North Pacific to humpback whale, Hawai'i and humpback whale, Mexico-North Pacific;

Category II AK Cook Inlet Salmon Set Gillnet Fishery

• Humpback whale, Central North Pacific to humpback whale, Hawai'i and humpback whale, Mexico-North Pacific;

Category II AK Prince William Sound Salmon Drift Gillnet Fishery

• Humpback whale, Central North Pacific to humpback whale, Hawai'i and humpback whale, Mexico-North Pacific;

Category II AK Yakutat Salmon Set Gillnet Fishery

• Humpback whale, Central North Pacific to humpback whale, Hawai'i and humpback whale, Mexico-North Pacific;

Category II AK Bering Sea, Aleutian Islands Pollock Trawl Fishery

• Humpback whale, Central North Pacific to humpback whale, Hawai'i and humpback whale, Mexico-North Pacific;

Category II CA Coonstripe Shrimp Pot Fishery

• Humpback whale, CA/OR/WA to humpback whale, Central America/Southern Mexico-CA/OR/WA and humpback whale, Mainland Mexico-CA/OR/WA stock;

Category II CA Spiny Lobster Fishery

• Humpback whale, CA/OR/WA to humpback whale, Central America/Southern Mexico-CA/OR/WA and humpback whale, Mainland Mexico-CA/OR/WA stock;

Category II CA Spot Prawn Pot Fishery

• Humpback whale, CA/OR/WA to humpback whale, Central America/Southern Mexico-CA/OR/WA and humpback whale, Mainland Mexico-CA/OR/WA stock;

Category II CA Dungeness Crab Pot Fishery

• Humpback whale, CA/OR/WA to humpback whale, Central America/Southern Mexico-CA/OR/WA and humpback whale, Mainland Mexico-CA/OR/WA stock;

Category II OR Dungeness Crab Pot Fishery

• Humpback whale, CA/OR/WA to humpback whale, Central America/Southern Mexico-CA/OR/WA and humpback whale, Mainland Mexico-CA/OR/WA stock;

Category II WA/OR/CA Sablefish Pot Fishery

• Humpback whale, CA/OR/WA to humpback whale, Central America/Southern Mexico-CA/OR/WA and humpback whale, Mainland Mexico-CA/OR/WA stock;

Category II WA Coastal Dungeness Crab Pot Fishery

• Humpback whale, CA/OR/WA to humpback whale, Central America/Southern Mexico-CA/OR/WA and humpback whale, Mainland Mexico-CA/OR/WA stock;

Category III AK Cook Inlet Salmon Purse Seine Fishery

• Humpback whale, Central North Pacific to humpback whale, Hawai'i and humpback whale, Mexico-North Pacific;

Category III AK Kodiak Salmon Purse Fishery

• Humpback whale, Central North Pacific to humpback whale, Hawai'i and humpback whale, Mexico-North Pacific;

Category III AK Southeast Salmon Purse Seine Fishery

• Humpback whale, Central North Pacific to humpback whale, Hawai'i and humpback whale, Mexico-North Pacific;

Category III AK Bering Sea, Aleutian Islands Pacific Cod Pot Fishery

• Humpback whale, Central North Pacific to humpback whale, Hawai'i and humpback whale, Mexico-North Pacific;

Category III Southeast Alaska Crab Pot Fishery

• Humpback whale, Central North Pacific to humpback whale, Hawai'i and humpback whale, Mexico-North Pacific;

Category III Southeast Alaska Shrimp Pot Fishery

• Humpback whale, Central North Pacific to humpback whale, Hawai'i and humpback whale, Mexico-North Pacific;

Category III HI Crab Trap Fishery

• Humpback whale, Central North Pacific to humpback whale, Hawai'i, and

Category III AK/WA/OR/CA Commercial Passenger Vessels Fishery

• Humpback whale, Central North Pacific to humpback whale, Hawai'i and humpback whale, Mexico-North Pacific.

Commercial Fisheries in the Atlantic Ocean, Gulf of Mexico, and Caribbean

Classification of Fisheries

NMFS proposes to reclassify the Category III U.S. Mid-Atlantic mixed species stop seine/weir/pound net (except the NC roe mullet stop net) fishery to a Category II based on M/SI of the Northern NC estuarine system stock of bottlenose dolphin. Mean annual estimated M/SI of the Northern NC estuarine stock of bottlenose dolphin in this fishery is 2.56 percent of PBR (7.8 dolphins). Because the estimated M/SI is between 1 and 50 percent of the stock's PBR, NMFS proposes to reclassify U.S. Mid-Atlantic mixed species stop seine/weir/pound net (except the NC roe mullet stop net) fishery from a Category III to a Category II fishery. NMFS also proposes to add the fishery to the list of affected fisheries for the Bottlenose Dolphin Take Reduction Plan in table 4.

Addition of Fisheries

NMFS proposes to add the Virginia shrimp trawl fishery as a Category II fishery. This new fishery operates in the Commonwealth of Virginia's coastal waters (within three nautical miles) from October 1 through January 1. The fishery uses beam trawl gear with a fixed frame no larger than 4 feet by 16 feet, with mesh size ranging from 1.5-2.0 inches (stretched mesh). Tows are not to exceed 30 minutes in duration. There are 12 authorized permits for this fishery.

There is no information on marine mammal M/SI incidental to this fishery. Therefore, no marine mammal species/stocks are identified in table 2. Marine mammal species/stocks will be added to the list, if incidental mortalities or injuries are documented in this fishery.

The regulatory definition of a Category II fishery (50 CFR 229.2) provides for NMFS to evaluate other factors such as: fishing techniques, gear used, methods used to deter marine mammals, target species, seasons and areas fished, qualitative data from logbooks or fisher reports, stranding data, and the species and distribution of marine mammals in the area when there is no reliable information on the frequency of incidental M/SI in a given fishery. In the absence of reliable information on incidental M/SI, the Virginia shrimp trawl fishery is proposed as a Category II fishery, because there is no evidence of a remote likelihood of or no known incidental M/SI in the fishery.

Fishery Name and Organizational Changes and Clarification

NMFS proposes to remove the superscript “1” from the WNA stock of long-finned pilot whale to indicate the stock is no longer driving the Category II classification of the Northeast mid-water trawl (including pair trawl) fishery.

NMFS proposes to combine the Category II Northeast anchored float gillnet fishery into the Category I Northeast sink gillnet fishery. Federal Vessel Trip Report codes do not distinguish anchored float gillnet gear from other types of gillnet gear. Consequently, fishing effort for the Northeast anchored float gillnet fishery is included as part of reported fishing effort for the Northeast sink gillnet fishery. Additionally, marine mammal bycatch in the Northeast anchored float gillnet fishery is included in bycatch analyses for the Northeast sink gillnet fishery. The species that are currently listed under the Northeast anchored float gillnet fishery are already included in the list of species incidentally taken in the Northeast sink gillnet fishery. This proposed change does not affect either fisheries' requirements under the Harbor Porpoise or Atlantic Large Whale TRPs (see table 4).

NMFS proposes to revise the fishery descriptions for the Category I Northeast/Mid-Atlantic American lobster trap/pot fishery and Category II Atlantic mixed species trap/pot fishery. NMFS proposes to add Jonah crab as a target species for the Category I Northeast/Mid-Atlantic American lobster trap/pot fishery and remove Jonah crab as a target species from the Category II Atlantic mixed species trap/pot fishery. NMFS also proposes to revise the name of the Category I Northeast/Mid-Atlantic American lobster and Jonah crab trap/pot fishery.

This proposed change aligns the Northeast/Mid-Atlantic American lobster and Atlantic mixed species trap/pot fisheries descriptions with how the two target species are collectively managed. Jonah crab distribution overlaps with that of American lobster, and Jonah crab are caught using the exact same gear used in the Category I Northeast/Mid-Atlantic American lobster trap/pot fishery. The gear used to target Jonah crab is consistent with what is currently described for the Category II Northeast/Mid-Atlantic American lobster trap/pot fishery. Currently, participation in the Jonah crab fishery is limited to American lobster permit holders. The Jonah crab fishery conforms to the specifications of the Interstate Fishery Management Plan for American Lobster and complies with regulatory requirements specified for each Lobster Management Area.

Number of Vessels/Persons

NMFS proposes to update the estimated number of vessels/persons in the Atlantic Ocean, Gulf of Mexico, and Caribbean (table 2) as follows:

Category I

• Northeast sink gillnet fishery from 4,072 to 4,924 vessels/persons;

Category II

• NC inshore gillnet fishery from 2,676 to 1,157 vessels/persons; and

• NC long haul seine fishery from 22 to 10 vessels/persons.

List of Species and/or Stocks Incidentally Killed or Injured in the Atlantic Ocean, Gulf of Mexico, and Caribbean

NMFS corrects an administrative error in table 2. NMFS proposes to update the bottlenose dolphin stock name from FL Bay estuarine to FL Bay in the list of species/stocks incidentally killed or injured in the Category III FL spiny lobster trap/pot fishery.

NMFS proposes to add the WNA stock of harp seal to the list of species/stocks incidentally killed or injured in the Category I mid-Atlantic gillnet fishery. From 2015 through 2019, there were 14 observed harp seal mortalities in the mid-Atlantic gillnet fishery (Hayes et al., 2022).

NMFS proposes to add the WNA stock of white-sided dolphin to the list of species/stocks incidentally killed or injured in the Category II Northeast mid-water trawl (including pair trawl) fishery based on a self-reported mortality in 2020.

NMFS proposes to add the Biscayne Bay estuarine stock of bottlenose dolphin to the list of species/stocks incidentally killed or injured in the Category II Atlantic blue crab trap/pot fishery. In 2020, one dolphin was disentangled from commercial blue crab trap/pot gear and released alive (Hayes et al., 2023). The animal was determined to be seriously injured (Maze-Foley and Garrison, In Prep).

NMFS proposes to add the Charleston estuarine system stock of bottlenose dolphin to the list of species/stocks incidentally killed or injured in the Category III Atlantic Ocean, Gulf of Mexico, Caribbean commercial passenger fishing vessel fishery. In 2017, there was one mortality where monofilament line was found during the necropsy; however, it could not be determined whether the hook and line gear contributed to cause of death (Hayes et al., 2023).

NMFS proposes to remove both the SC/GA coastal and Southern migratory coastal stocks of bottlenose dolphin from the list of species/stocks incidentally killed or injured in the Category II Southeast Atlantic gillnet fishery. This fishery is observed; and, from 2016-2020, there have been no reported or observed M/SI in this fishery (Hayes et al., 2023).

NMFS proposes to remove the Charleston estuarine system stock of bottlenose dolphin from the list of species/stocks incidentally killed or injured in the Category II Southeastern U.S. Atlantic, Gulf of Mexico shrimp trawl fishery. This fishery is observed; and, from 2016-2020, there have been no reported or observed M/SI in this fishery (Hayes et al., 2023).

Commercial Fisheries on the High Seas

Fishery Name and Organizational Changes and Clarification

NMFS proposes to remove Category II Atlantic Highly Migratory Species trawl fishery from the LOF because there are no participants in this fishery.

NMFS proposes to remove Category II South Pacific tuna fisheries troll fishery from the LOF because there are no participants in this fishery.

Number of Vessels/Persons

NMFS proposes to update the estimated number of HSFCA permits for high seas fisheries (table 3) as follows:

Category I

• Western Pacific pelagic (HI deep-set component) longline fishery from 150 to 146 HSFCA permits;

Category II

• Pacific highly migratory species drift gillnet fishery from 3 to 2 HSFCA permits;

• Western and Central Pacific Ocean tuna purse seine fishery from 34 to 14 HSFCA permits;

• South Pacific albacore troll longline fishery from 8 to 6 HSFCA permits;

• Pacific highly migratory species handline/pole and line fishery from 45 to 36 HSFCA permits;

• South Pacific albacore troll handline/pole and line fishery from 7 to 1 HSFCA permits;

• South Pacific albacore troll fishery from 24 to 23 HSFCA permits;

• Western Pacific pelagic troll fishery from 7 to 6 HSFCA permits;

Category III

• Northwest Atlantic bottom longline fishery from 2 to 1 HSFCA permits;

• Pacific highly migratory species longline fishery from 127 to 119 HSFCA permits;

• Pacific highly migratory species purse seine fishery from 2 to 1 HSFCA permits;

• Northwest Atlantic trawl fishery from 3 to 1 HSFCA permits; and

• Pacific highly migratory species troll fishery from 93 to 95 HSFCA permits.

List of Species and/or Stocks Incidentally Killed or Injured on the High Seas

NMFS proposes to remove the Hawaii stock of striped dolphin from the list of species/stocks incidentally killed or injured in the Category I Western Pacific Pelagic longline fishery (HI deep-set component). As noted in table 3, the list of marine mammal species and/or stocks killed or injured in this fishery is identical to the list of marine mammal species and/or stocks killed or injured in U.S. waters component of the fishery, minus species and/or stocks that have geographic ranges exclusively in coastal waters. From 2016-2020, there have been no reported or observed M/SI in the HI deep-set longline fishery (Carretta et al., 2023); the fishery is currently observed at about 20-percent coverage. Therefore, NMFS proposed to remove the stock from both the HI deep-set longline fishery and the Western Pacific Pelagic longline fishery (HI deep-set component).

NMFS proposes to remove the unknown stock of pygmy killer whale from the list of species/stocks incidentally killed or injured in the Category II Western and Central Pacific Ocean tuna purse seine fishery. From 2016-2020, there have been no reported or observed M/SI in the fishery (Carretta et al., 2023); the fishery is currently observed at about 20 percent coverage.

NMFS proposes to remove the Hawaii stock of fin whale and Central North Pacific stock of humpback whale from the list of species/stocks incidentally killed or injured in the Category II Western Pacific Pelagic longline fishery (HI shallow-set component). As noted in table 3, the list of marine mammal species and/or stocks killed or injured in this fishery is identical to the list of marine mammal species and/or stocks killed or injured in U.S. waters component of the fishery, minus species and/or stocks that have geographic ranges exclusively in coastal waters. From 2016-2020, there have been no reported or observed M/SI in the HI shallow-set longline fishery (Carretta et al., 2023), which is observed at 100 percent. Therefore, NMFS proposed to remove the stocks from both the HI shallow-set longline fishery and the Western Pacific Pelagic longline fishery (HI shallow-set component).

List of Fisheries

The following tables set forth the list of U.S. commercial fisheries according to their classification under section 118 of the MMPA. Table 1 lists commercial fisheries in the Pacific Ocean (including Alaska), table 2 lists commercial fisheries in the Atlantic Ocean, Gulf of Mexico, and Caribbean, table 3 lists commercial fisheries on the high seas, and table 4 lists fisheries affected by TRPs or TRTs.

In tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort. For example, the State of Hawaii does not issue fishery-specific licenses, and the number of participants reported in the LOF represents the number of commercial marine license holders who reported using a particular fishing gear type/method at least once in a given year, without considering how many times the gear was used. For these fisheries, effort by a single participant is counted the same whether the fisherman used the gear only once or every day. In the Mid-Atlantic and New England fisheries, the numbers represent the potential effort for each fishery, given the multiple gear types for which several state permits may allow. Changes made to Mid-Atlantic and New England fishery participants will not affect observer coverage or bycatch estimates, as observer coverage and bycatch estimates are based on vessel trip reports and landings data. Tables 1 and 2 serve to provide a description of the fishery's potential effort (state and Federal). If NMFS is able to gather more accurate information on the gear types used by state permit holders in the future, the numbers will be updated to reflect this change. For additional information on fishing effort in fisheries found on table 1 or 2, contact the relevant regional office (contact information included above in the section: Where can I find more information about the LOF and the MMAP?).

For high seas fisheries, table 3 lists the number of valid HSFCA permits currently held. Although this likely overestimates the number of active participants in many of these fisheries, the number of valid HSFCA permits is the most reliable data on the potential effort in high seas fisheries at this time. As noted previously, the number of HSFCA permits listed in table 3 for the high seas components of fisheries that also operate within U.S. waters does not necessarily represent additional effort that is not accounted for in tables 1 and 2. Many vessels holding HSFCA permits also fish within U.S. waters and are included in the number of vessels and participants operating within those fisheries in tables 1 and 2.

Tables 1, 2, and 3 also list the marine mammal species and/or stocks incidentally killed or injured (seriously or non-seriously) in each fishery based on SARs, injury determination reports, bycatch estimation reports, observer data, logbook data, stranding data, disentanglement network data, fishermen self-reports (i.e., MMAP reports), and anecdotal reports. The best available scientific information included in these reports is based on data through 2020. This list includes all species and/or stocks known to be killed or injured in a given fishery, but also includes species and/or stocks for which there are anecdotal records of a mortality or injury. Additionally, species identified by logbook entries, stranding data, or fishermen self-reports (i.e., MMAP reports) may not be verified. In tables 1 and 2, NMFS has designated those species/stocks driving a fishery's classification (i.e., the fishery is classified based on mortalities and serious injuries of a marine mammal stock that are greater than or equal to 50 percent (Category I), or greater than 1 percent and less than 50 percent (Category II), of a stock's PBR) by a “1” after the stock's name.

In tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear types, methods used to deter marine mammals, target species, seasons and areas fished, qualitative data from logbooks or fishermen reports, stranding data, and the species and distribution of marine mammals in the area). NMFS has designated those fisheries listed by analogy in tables 1 and 2 by adding a “2” after the fishery's name.

There are several fisheries in tables 1, 2, and 3 in which a portion of the fishing vessels cross the EEZ boundary and therefore operate both within U.S. waters and on the high seas. These fisheries, though listed separately on table 1 or 2 and table 3, are considered the same fisheries on either side of the EEZ boundary. NMFS has designated those fisheries in each table with an asterisk (*) after the fishery's name.

Table 1—List of Fisheries—Commercial Fisheries in the Pacific Ocean
Fishery description | Estimated number of vessels/persons | Marine mammal species and/or stocks incidentally killed or injured
Category I
Longline/Set Line Fisheries:
HI deep-set longline * ^ | 146 | Bottlenose dolphin, HI Pelagic.
|  | False killer whale, HI Pelagic.¹
|  | False killer whale, MHI Insular.
|  | False killer whale, NWHI.
|  | Kogia spp. (Pygmy or dwarf sperm whale), HI.
|  | Risso's dolphin, HI.
|  | Rough-toothed dolphin, HI.
|  | Short-finned pilot whale, HI.
Gillnet Fisheries:
AK Southeast salmon drift gillnet | 474 | Dall's porpoise, AK.
|  | Harbor porpoise, northern Southeast Alaska inland waters.
|  | Harbor porpoise, southern Southeast Alaska inland waters.¹
|  | Harbor seal, Southeast AK.
|  | Humpback whale, Hawai'i.
|  | Humpback whale, Mexico-North Pacific
|  | Pacific white-sided dolphin, North Pacific.
|  | Steller sea lion, Eastern U.S.
Pot, Ring Net, and Trap Fisheries:
CA Dungeness crab pot | 471 | Blue whale, Eastern North Pacific.
|  | Gray whale, Eastern North Pacific.
|  | Humpback whale, Central America/Southern Mexico-CA/OR/WA.¹
|  | Humpback whale, Mainland Mexico-CA/OR/WA.
|  | Killer whale, Eastern North Pacific GOA, BSAI transient.
|  | Killer whale, West Coast transient.
|  | Northern elephant seal, CA breeding.
Category II
Gillnet Fisheries:
CA thresher shark/swordfish drift gillnet (≥14 in mesh) * | 21 | Bottlenose dolphin, CA/OR/WA offshore.
|  | California sea lion, U.S.
|  | Dall's porpoise, CA/OR/WA.
|  | Gray whale, Eastern North Pacific.
|  | Humpback whale, Central America/Southern Mexico-CA/OR/WA.
|  | Humpback whale, Mainland Mexico-CA/OR/WA.
|  | Long-beaked common dolphin, CA.
|  | Minke whale, CA/OR/WA.
|  | Northern elephant seal, CA breeding.
|  | Northern right-whale dolphin, CA/OR/WA.
|  | Pacific white-sided dolphin, CA/OR/WA.
|  | Risso's dolphin, CA/OR/WA.
|  | Short-beaked common dolphin, CA/OR/WA.
|  | Short-finned pilot whale, CA/OR/WA.¹
|  | Sperm Whale, CA/OR/WA.¹
CA halibut/white seabass and other species set gillnet (>3.5 in mesh) * | 39 | California sea lion, U.S.
|  | Gray whale, Eastern North Pacific.
|  | Harbor seal, CA.
|  | Humpback whale, Central America/Southern Mexico-CA/OR/WA.¹
|  | Humpback whale, Mainland Mexico-CA/OR/WA.
|  | Long-beaked common dolphin, CA.
|  | Northern elephant seal, CA breeding.
|  | Southern sea otter, CA.
|  | Short-beaked common dolphin, CA/OR/WA.
CA yellowtail, barracuda, and white seabass drift gillnet (mesh size ≥3.5 in and <14 in) ² | 20 | California sea lion, U.S. Long-beaked common dolphin, CA. Short-beaked common dolphin, CA/OR/WA.
AK Bristol Bay salmon drift gillnet ² | 1,521 | Beluga whale, Bristol Bay.
|  | Gray whale, Eastern North Pacific.
|  | Harbor seal, Bristol Bay.
|  | Northern fur seal, Eastern Pacific.
|  | Pacific white-sided dolphin, North Pacific.
|  | Spotted seal, Bering.
|  | Steller sea lion, Western U.S.
AK Bristol Bay salmon set gillnet ² | 855 | Beluga whale, Bristol Bay.
|  | Gray whale, Eastern North Pacific.
|  | Harbor seal, Bristol Bay.
|  | Northern fur seal, Eastern Pacific.
|  | Spotted seal, Bering.
AK Kodiak salmon set gillnet | 128 | Harbor porpoise, GOA.¹
|  | Harbor seal, GOA.
|  | Humpback whale, Hawai'i.
|  | Humpback whale, Mexico-North Pacific.
|  | Humpback whale, Western North Pacific.
|  | Northern sea otter, Southwest AK.
|  | Steller sea lion, Western U.S.
AK Cook Inlet salmon set gillnet ² | 479 | Beluga whale, Cook Inlet.
|  | Dall's porpoise, AK.
|  | Harbor porpoise, GOA.
|  | Harbor seal, Cook Inlet/Shelikof Strait.
|  | Humpback whale, Hawai'i.
|  | Humpback whale, Mexico-North Pacific.
|  | Northern sea otter, South central AK.
|  | Steller sea lion, Western U.S.
AK Cook Inlet salmon drift gillnet | 355 | Beluga whale, Cook Inlet.
|  | Dall's porpoise, AK.
|  | Harbor porpoise, GOA.¹
|  | Harbor seal, GOA.
|  | Steller sea lion, Western U.S.
AK Peninsula/Aleutian Islands salmon drift gillnet ² | 148 | Dall's porpoise, AK.
|  | Harbor porpoise, GOA.
|  | Harbor seal, GOA.
|  | Northern fur seal, Eastern Pacific.
AK Peninsula/Aleutian Islands salmon set gillnet ² | 75 | Harbor porpoise, Bering Sea.
|  | Northern sea otter, Southwest AK.
|  | Steller sea lion, Western U.S.
AK Prince William Sound salmon drift gillnet | 483 | Dall's porpoise, AK.
|  | Gray whale, Eastern North Pacific.
|  | Harbor porpoise, GOA.¹
|  | Harbor seal, Prince William Sound.
|  | Humpback whale, Hawai'i.
|  | Humpback whale, Mexico-North Pacific.
|  | Northern fur seal, Eastern Pacific.
|  | Pacific white-sided dolphin, North Pacific.
|  | Northern sea otter, South central AK.
|  | Steller sea lion, Western U.S.¹
AK Yakutat salmon set gillnet | 95 | Gray whale, Eastern North Pacific.
|  | Harbor Porpoise, Yakutat/Southeast Alaska offshore waters.¹
|  | Harbor seal, Southeast AK.
|  | Humpback whale, Hawai'i.
|  | Humpback whale, Mexico-North Pacific.
WA Puget Sound Region salmon drift gillnet (includes all inland waters south of US-Canada border and eastward of the Bonilla-Tatoosh line-Treaty Indian fishing is excluded) | 136 | Dall's porpoise, CA/OR/WA. Harbor porpoise, inland WA.¹ Harbor seal, WA inland.
Trawl Fisheries:
AK Bering Sea, Aleutian Islands flatfish trawl | 29 | Bearded seal, Beringia.
|  | Gray whale, Eastern North Pacific.
|  | Harbor porpoise, Bering Sea.
|  | Harbor seal, Bristol Bay.
|  | Humpback whale, Western North Pacific.
|  | Killer whale, Eastern North Pacific Alaska resident.
|  | Killer whale, Eastern North Pacific GOA, AI, BS transient.¹
|  | Northern fur seal, Eastern Pacific.
|  | Ringed seal, Arctic.
|  | Ribbon seal.
|  | Spotted seal, Bering.
|  | Steller sea lion, Western U.S.¹
|  | Walrus, AK.
AK Bering Sea, Aleutian Islands pollock trawl | 116 | Bearded seal, Beringia.
|  | Harbor seal, Bristol Bay.
|  | Humpback whale, Hawai'i.
|  | Humpback whale, Mexico-North Pacific.
|  | Humpback whale, Western North Pacific.
|  | Pacific white-sided dolphin, North Pacific.
|  | Ribbon seal.
|  | Ringed seal, Arctic.
|  | Steller sea lion, Western U.S.¹
Pot, Ring Net, and Trap Fisheries:
CA coonstripe shrimp pot | 9 | Gray whale, Eastern North Pacific.
|  | Harbor seal, CA.
|  | Humpback whale, Central America/Southern Mexico-CA/OR/WA.¹
|  | Humpback whale, Mainland Mexico-CA/OR/WA.
CA spiny lobster | 189 | Bottlenose dolphin, CA/OR/WA offshore.
|  | California sea lion, U.S.
|  | Humpback whale, Central America/Southern Mexico-CA/OR/WA.¹
|  | Humpback whale, Mainland Mexico-CA/OR/WA.
|  | Gray whale, Eastern North Pacific.
|  | Southern sea otter, CA.
CA spot prawn pot | 22 | Gray whale, Eastern North Pacific.
|  | Humpback whale, Central America/Southern Mexico-CA/OR/WA.¹
|  | Humpback whale, Mainland Mexico-CA/OR/WA.
|  | Long-beaked common dolphin, CA.
OR Dungeness crab pot | 323 | Gray whale, Eastern North Pacific.
|  | Humpback whale, Central America/Southern Mexico-CA/OR/WA.¹
|  | Humpback whale, Mainland Mexico-CA/OR/WA.
WA/OR/CA sablefish pot | 144 | Humpback whale, Central America/Southern Mexico-CA/OR/WA.¹
|  | Humpback whale, Mainland Mexico-CA/OR/WA.¹
WA coastal Dungeness crab pot | 204 | Gray whale, Eastern North Pacific.
|  | Humpback whale, Central America/Southern Mexico-CA/OR/WA.¹
|  | Humpback whale, Mainland Mexico-CA/OR/WA.
Longline/Set Line Fisheries:
AK Gulf of Alaska sablefish longline | 177 | Northern elephant seal, California breeding.
|  | Sperm whale, North Pacific.¹
|  | Steller sea lion, Eastern U.S.
|  | Steller sea lion, Western U.S.
HI shallow-set longline * ^ | 14 | Bottlenose dolphin, HI Pelagic.
|  | False killer whale, HI Pelagic.¹
|  | Guadalupe fur seal.
|  | Risso's dolphin, HI.
|  | Striped dolphin, HI.
American Samoa longline ² | 11 | False killer whale, American Samoa.
|  | Rough-toothed dolphin, American Samoa.
|  | Striped dolphin, unknown.
HI shortline ² | 8 | None documented.
Marine Aquaculture Fisheries:
HI offshore pen culture | 1 | Hawaiian monk seal.
Category III
Gillnet Fisheries:
AK Kuskokwim, Yukon, Norton Sound, Kotzebue salmon gillnet | 360 | Harbor porpoise, Bering Sea.
AK Prince William Sound salmon set gillnet | 25 | Harbor seal, GOA.
|  | Northern sea otter, South central AK.
|  | Steller sea lion, Western U.S.
AK roe herring and food/bait herring gillnet | 15 | None documented.
CA herring set gillnet | 11 | None documented.
HI inshore gillnet | 26 | Bottlenose dolphin, HI.
|  | Spinner dolphin, HI.
WA Grays Harbor salmon drift gillnet (excluding treaty Tribal fishing) | 19 | Harbor seal, OR/WA coast.
WA/OR Mainstem Columbia River eulachon gillnet | 10 | None documented.
WA/OR lower Columbia River (includes tributaries) drift net | 244 | California sea lion, U.S.
|  | Harbor seal, OR/WA coast.
WA Willapa Bay drift gillnet | 57 | Harbor seal, OR/WA coast.
|  | Northern elephant seal, CA breeding.
Miscellaneous Net Fisheries:
AK Cook Inlet salmon purse seine | 16 | Humpback whale, Hawai'i.
|  | Humpback whale, Mexico-North Pacific.
AK Kodiak salmon purse seine | 159 | Dall's porpoise, AK.
|  | Harbor seal, North Kodiak.
|  | Humpback whale, Hawai'i.
|  | Humpback whale, Mexico-North Pacific.
|  | Humpback whale, Western North Pacific.
|  | Steller sea lion, Western U.S.
AK Southeast salmon purse seine | 206 | Humpback whale, Hawai'i.
|  | Humpback whale, Mexico-North Pacific.
AK roe herring and food/bait herring purse seine | 31 | None documented.
AK salmon beach seine | 2 | None documented.
AK salmon purse seine (Prince William Sound, Chignik, Alaska Peninsula) | 298 | Harbor seal, GOA.
|  | Harbor seal, Prince William Sound.
WA/OR sardine purse seine | 6 | None documented.
CA anchovy, mackerel, sardine purse seine | 53 | California sea lion, U.S.
|  | Harbor seal, CA.
CA squid purse seine | 68 | California sea lion, U.S.
|  | Long-beaked common dolphin, CA.
|  | Risso's dolphin, CA/OR/WA.
|  | Short-beaked common dolphin, CA/OR/WA.
CA tuna purse seine * | 14 | None documented.
WA/OR Lower Columbia River salmon seine | 1 | None documented.
WA/OR herring, anchovy, smelt, squid purse seine or lampara | 41 | None documented.
WA salmon seine | 81 | None documented.
WA salmon reef net | 11 | None documented.
HI lift net | 14 | None documented.
HI inshore purse seine | None recorded | None documented.
HI throw net, cast net | 13 | None documented.
HI seine net | 17 | None documented.
Dip Net Fisheries:
CA squid dip net | 19 | None documented.
Marine Aquaculture Fisheries:
CA marine shellfish aquaculture | unknown | None documented.
CA salmon enhancement rearing pen | >1 | None documented.
CA white seabass enhancement net pens | 13 | California sea lion, U.S.
WA salmon net pens | 14 | California sea lion, U.S. Harbor seal, WA inland waters.
WA/OR shellfish aquaculture | 23 | None documented.
Troll Fisheries:
WA/OR/CA albacore surface hook and line/troll | 556 | None documented.
CA halibut, white seabass, and yellowtail hook and line/handline | 388 | None documented.
CA/OR/WA non-albacore HMS hook and line | 124 | None documented.
AK Gulf of Alaska groundfish hand troll and dinglebar troll | 4 | None documented.
AK salmon troll | 850 | Steller sea lion, Eastern U.S.
|  | Steller sea lion, Western U.S.
American Samoa tuna troll | 6 | None documented.
CA/OR/WA salmon troll | 1,030 | None documented.
HI troll | 1,124 | Pantropical spotted dolphin, HI.
HI rod and reel | 235 | None documented.
Commonwealth of the Northern Mariana Islands tuna troll | 9 | None documented.
Guam tuna troll | 450 | None documented.
Longline/Set Line Fisheries:
AK Bering Sea, Aleutian Islands Greenland turbot longline | 4 | Killer whale, GOA, AI, BS transient.
AK Bering Sea, Aleutian Islands Pacific cod longline | 26 | Northern fur seal, Eastern Pacific.
|  | Steller sea lion, Western U.S.
AK Bering Sea, Aleutian Islands sablefish longline | 8 | None documented.
AK Bering Sea, Aleutian Islands halibut longline | 84 | Northern fur seal, Eastern Pacific.
|  | Sperm whale, North Pacific.
AK Gulf of Alaska halibut longline | 689 | Harbor seal, Clarence Strait.
|  | Harbor seal, Cook Inlet.
|  | Steller sea lion, Eastern U.S.
AK Gulf of Alaska Pacific cod longline | 23 | Harbor seal, Cook Inlet/Shelikof Strait.
|  | Steller sea lion, Western U.S.
AK octopus/squid longline | 0 | None documented.
AK state-managed waters longline/setline (including sablefish, rockfish, lingcod, and miscellaneous finfish) | 464 | None documented.
WA/OR/CA groundfish, bottomfish longline/set line | 314 | Bottlenose dolphin, CA/OR/WA offshore.
|  | California sea lion, U.S.
|  | Northern elephant seal, California breeding.
|  | Sperm whale, CA/OR/WA.
|  | Steller sea lion, Eastern U.S.
WA/OR/CA Pacific halibut longline | 130 | None documented.
West Coast pelagic longline | 4 | None documented in the most recent 5 years of data.
HI kaka line | 17 | None documented.
HI vertical line | 6 | None documented.
Trawl Fisheries:
AK Bering Sea, Aleutian Islands Atka mackerel trawl | 17 | Harbor seal, Aleutian Islands.
|  | Northern elephant seal, California.
|  | Steller sea lion, Western U.S.
AK Bering Sea, Aleutian Islands Pacific cod trawl | 64 | Bearded seal, AK.
|  | Ribbon seal.
|  | Steller sea lion, Western U.S.
AK Bering Sea, Aleutian Islands rockfish trawl | 22 | Harbor seal, Aleutian Islands.
|  | Ribbon seal.
AK Gulf of Alaska flatfish trawl | 16 | Harbor seal, Cook Inlet/Shelikof Strait.
|  | Harbor seal, North Kodiak.
|  | Harbor seal, South Kodiak.
|  | Steller sea lion, Western U.S.
AK Gulf of Alaska Pacific cod trawl | 12 | Steller sea lion, Western U.S.
AK Gulf of Alaska pollock trawl | 60 | Steller sea lion, Western U.S.
AK Gulf of Alaska rockfish trawl | 35 | Steller sea lion, Western U.S.
AK Kodiak food/bait herring otter trawl | 0 | None documented.
AK shrimp otter trawl and beam trawl | 12 | None documented.
CA halibut bottom trawl | 23 | California sea lion, U.S.
|  | Harbor porpoise, unknown.
|  | Harbor seal, unknown.
|  | Northern elephant seal, CA breeding.
|  | Steller sea lion, unknown.
CA sea cucumber trawl | 11 | California sea lion, U.S.
WA/OR/CA shrimp trawl | 130 | California sea lion, U.S.
WA/OR/CA groundfish trawl | 118 | California sea lion, U.S.
|  | Dall's porpoise, CA/OR/WA.
|  | Harbor seal, OR/WA coast.
|  | Northern elephant seal, CA breeding.
|  | Northern fur seal, Eastern Pacific.
|  | Northern right whale dolphin, CA/OR/WA.
|  | Pacific white-sided dolphin, CA/OR/WA.
|  | Steller sea lion, Eastern U.S.
Pot, Ring Net, and Trap Fisheries:
AK Bering Sea, Aleutian Islands Pacific cod pot | 80 | Harbor seal, Bristol Bay.
|  | Humpback whale, Hawai'i.
|  | Humpback whale, Mexico-North Pacific.
|  | Humpback whale, Western North Pacific.
AK Bering Sea, Aleutian Islands sablefish pot | 15 | Sperm whale, North Pacific.
AK Bering Sea, Aleutian Islands crab pot | 73 | Bowhead whale, Western Arctic.
|  | Gray whale, Eastern North Pacific.
AK Gulf of Alaska crab pot | 86 | None documented.
AK Gulf of Alaska Pacific cod pot | 48 | None documented in most recent 5 years of data.
AK Gulf of Alaska sablefish pot | 129 | None documented.
AK Southeast Alaska crab pot | 375 | Humpback whale, Hawai'i.
|  | Humpback whale, Mexico-North Pacific.
AK Southeast Alaska shrimp pot | 104 | Humpback whale, Hawai'i.
|  | Humpback whale, Mexico-North Pacific.
AK shrimp pot, except Southeast | 77 | None documented.
AK octopus/squid pot | 0 | None documented.
CA rock crab pot | 113 | Gray whale, Eastern North Pacific.
|  | Harbor seal, CA.
CA Tanner crab pot fishery | 1 | None documented.
WA/OR/CA hagfish pot | 63 | None documented.
WA/OR shrimp pot/trap | 28 | None documented.
WA Puget Sound Dungeness crab pot/trap | 145 | None documented.
HI crab trap | 4 | Humpback whale, Hawai'i.
HI fish trap | 4 | None documented.
HI lobster trap | Less than 3 | None documented in recent years.
HI shrimp trap | 3 | None documented.
HI crab net | 4 | None documented.
HI Kona crab loop net | 13 | None documented.
Hook and Line, Handline, and Jig Fisheries:
AK Bering Sea, Aleutian Islands groundfish jig | 2 | None documented.
AK Gulf of Alaska groundfish jig | 68 | None documented in most recent 5 years of data.
AK halibut jig | 5 | None documented.
American Samoa bottomfish | 44 | None documented.
Commonwealth of the Northern Mariana Islands bottomfish | 7 | None documented.
Guam bottomfish | 63 | None documented.
HI aku boat, pole, and line | None recorded | None documented.
HI bottomfish handline | 392 | None documented in recent years.
HI inshore handline | 158 | None documented.
HI pelagic handline | 271 | None documented.
WA/OR/CA groundfish/finfish hook and line | 689 | California sea lion, U.S.
Western Pacific squid jig | 0 | None documented.
Harpoon Fisheries:
CA swordfish harpoon | 21 | None documented.
Pound Net/Weir Fisheries:
AK herring spawn on kelp pound net | 143 | None documented.
AK Southeast herring roe/food/bait pound net | 1 | None documented.
HI bullpen trap | <3 | None documented.
Bait Pens:
WA/OR/CA bait pens | 13 | California sea lion, U.S.
Dredge Fisheries:
AK scallop dredge | 108 (5 AK) | None documented.
Dive, Hand/Mechanical Collection Fisheries:
AK clam | 57 | None documented.
AK miscellaneous invertebrates handpick | 188 | None documented.
CA/OR/WA dive collection | 186 | None documented.
CA/WA kelp, seaweed and algae | 4 | None documented.
HI black coral diving | None recorded | None documented.
HI fish pond | None recorded | None documented.
HI handpick | 25 | None documented.
HI lobster diving | 12 | None documented.
HI spearfishing | 67 | None documented.
WA/OR/CA hand/mechanical collection | 320 | None documented.
Commercial Passenger Fishing Vessel (Charter Boat) Fisheries:
AK/WA/OR/CA commercial passenger fishing vessel | >7,000 (1,006 AK) | Humpback whale, Hawai'i.
|  | Humpback whale, Mexico-North Pacific.
|  | Humpback whale, Western North Pacific.
|  | Killer whale, unknown.
|  | Steller sea lion, Eastern U.S.
|  | Steller sea lion, Western U.S.
Live Finfish/Shellfish Fisheries:
CA nearshore finfish trap | 42 | None documented.
HI aquarium collecting | None recorded | None documented.
List of Abbreviations and Symbols Used in Table 1:
AI—Aleutian Islands; AK—Alaska; BS—Bering Sea; CA—California; ENP—Eastern North Pacific; GOA—Gulf of Alaska; HI—Hawaii; MHI—Main Hawaiian Islands; OR—Oregon; WA—Washington;
¹ Fishery classified based on mortalities and serious injuries of this stock, which are greater than or equal to 50 percent (Category I) or greater than 1 percent and less than 50 percent (Category II) of the stock's PBR;
² Fishery classified by analogy;
* Fishery has an associated high seas component listed in table 3; and
^ The list of marine mammal species and/or stocks killed or injured in this fishery is identical to the list of species and/or stocks killed or injured in high seas component of the fishery, minus species and/or stocks that have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels/persons | Marine mammal species and/or stocks incidentally killed or injured
Category I
Gillnet Fisheries:
Mid-Atlantic gillnet | 4,020 | Bottlenose dolphin, Northern Migratory coastal.
|  | Bottlenose dolphin, Southern Migratory coastal.¹
|  | Bottlenose dolphin, Northern NC estuarine system.¹
|  | Bottlenose dolphin, Southern NC estuarine system.¹
|  | Bottlenose dolphin, WNA offshore.
|  | Common dolphin, WNA.
|  | Gray seal, WNA.
|  | Harbor porpoise, GME/BF.
|  | Harbor seal, WNA.
|  | Harp seal, WNA.
|  | Hooded seal, WNA.
|  | Humpback whale, Gulf of Maine.
|  | Minke whale, Canadian east coast.
Northeast sink gillnet | 4,924 | Bottlenose dolphin, Northern Migratory coastal.
|  | Bottlenose dolphin, WNA offshore.
|  | Common dolphin, WNA.
|  | Fin whale, WNA.
|  | Gray seal, WNA.¹
|  | Harbor porpoise, GME/BF.
|  | Harbor seal, WNA.
|  | Harp seal, WNA.
|  | Humpback whale, Gulf of Maine.
|  | Minke whale, Canadian east coast.
|  | North Atlantic right whale, WNA.
|  | Risso's dolphin, WNA.
|  | White-sided dolphin, WNA.
Trap/Pot Fisheries:
Northeast/Mid-Atlantic American lobster and Jonah crab trap/pot | 8,485 | Humpback whale, Gulf of Maine.
|  | Minke whale, Canadian east coast.
|  | North Atlantic right whale, WNA.¹
Longline Fisheries:
Atlantic Ocean, Caribbean, Gulf of Mexico large pelagics longline * | 201 | Atlantic spotted dolphin, Northern GMX. Bottlenose dolphin, Northern GMX oceanic.
|  | Bottlenose dolphin, WNA offshore.
|  | Common dolphin, WNA.
|  | Cuvier's beaked whale, WNA.
|  | False killer whale, WNA.
|  | Harbor porpoise, GME, BF.
|  | Kogia spp. (Pygmy or dwarf sperm whale), WNA.
|  | Long-finned pilot whale, WNA.
|  | Mesoplodon beaked whale, WNA.
|  | Minke whale, Canadian East coast.
|  | Pantropical spotted dolphin, Northern GMX.
|  | Pygmy sperm whale, GMX.
|  | Risso's dolphin, Northern GMX.
|  | Risso's dolphin, WNA.
|  | Rough-toothed dolphin, Northern GMX.
|  | Short-finned pilot whale, Northern GMX.
|  | Short-finned pilot whale, WNA.¹
|  | Sperm whale, Northern GMX.
Category II
Gillnet Fisheries:
Chesapeake Bay inshore gillnet ² | 265 | Bottlenose dolphin, unknown (Northern migratory coastal or Southern migratory coastal).
Gulf of Mexico gillnet ² | 248 | Bottlenose dolphin, Eastern GMX coastal.
|  | Bottlenose dolphin, GMX bay, sound, and estuarine.
|  | Bottlenose dolphin, Mobile Bay, Bonsecour Bay.
|  | Bottlenose dolphin, MS Sound, Lake Borgne, Bay Boudreau.
|  | Bottlenose dolphin, Northern GMX coastal.
|  | Bottlenose dolphin, Western GMX coastal.
NC inshore gillnet | 1,157 | Bottlenose dolphin, Northern NC estuarine system.¹
|  | Bottlenose dolphin, Southern NC estuarine system.¹
Northeast drift gillnet ² | 1,036 | None documented.
Southeast Atlantic gillnet ² | 273 | Bottlenose dolphin, Central FL coastal.
|  | Bottlenose dolphin, Northern FL coastal.
Southeastern U.S. Atlantic shark gillnet | 21 | Bottlenose dolphin, unknown (Central FL, Northern FL, SC/GA coastal, or Southern migratory coastal).
|  | North Atlantic right whale, WNA.
Trawl Fisheries:
Mid-Atlantic mid-water trawl (including pair trawl) | 320 | Bottlenose dolphin, WNA offshore.
|  | Harbor seal, WNA.
Mid-Atlantic bottom trawl | 633 | Bottlenose dolphin, WNA offshore.¹
|  | Common dolphin, WNA.¹
|  | Gray seal, WNA.¹
|  | Harbor seal, WNA.
|  | Risso's dolphin, WNA.¹
|  | White-sided dolphin, WNA.
Northeast mid-water trawl (including pair trawl) | 542 | Common dolphin, WNA.
|  | Gray seal, WNA.
|  | Harbor seal, WNA.
|  | Long-finned pilot whale, WNA.
|  | White-sided dolphin, WNA.
Northeast bottom trawl | 968 | Bottlenose dolphin, WNA offshore.¹
|  | Common dolphin, WNA.
|  | Gray seal, WNA.¹
|  | Harbor porpoise, GME/BF.
|  | Harbor seal, WNA.
|  | Harp seal, WNA.
|  | Long-finned pilot whale, WNA.¹
|  | Risso's dolphin, WNA¹
|  | White-sided dolphin, WNA.¹
Southeastern U.S. Atlantic, Gulf of Mexico shrimp trawl | 10,824 | Atlantic spotted dolphin, Northern Gulf of Mexico.
|  | Bottlenose dolphin, Barataria Bay Estuarine System.
|  | Bottlenose dolphin, Eastern GMX coastal.¹
|  | Bottlenose dolphin, GMX bay, sound, estuarine.¹
|  | Bottlenose dolphin, GMX continental shelf.
|  | Bottlenose dolphin, Mississippi River Delta.
|  | Bottlenose dolphin, Mobile Bay, Bonsecour Bay.
|  | Bottlenose dolphin, Northern GMX coastal.¹
|  | Bottlenose dolphin, Pensacola Bay, East Bay.
|  | Bottlenose dolphin, Perdido Bay.
|  | Bottlenose dolphin, SC/GA coastal.¹
|  | Bottlenose dolphin, Southern migratory coastal.
|  | Bottlenose dolphin, Western GMX coastal.¹
Virginia shrimp trawl | 12 | None documented.
Trap/Pot Fisheries:
MA mixed species trap/pot | 1,240 | None documented.
Southeastern U.S. Atlantic, Gulf of Mexico stone crab trap/pot ² | 1,101 | Bottlenose dolphin, Biscayne Bay estuarine.
|  | Bottlenose dolphin, Central FL coastal.
|  | Bottlenose dolphin, Eastern GMX coastal.
|  | Bottlenose dolphin, FL Bay.
|  | Bottlenose dolphin, GMX bay, sound, estuarine (FL west coast portion).
|  | Bottlenose dolphin, Indian River Lagoon estuarine system.
|  | Bottlenose dolphin, Jacksonville estuarine system.
|  | Bottlenose dolphin, Sarasota Bay, Little Sarasota Bay.
Atlantic mixed species trap/pot ² | 3,493 | Fin whale, WNA.
|  | Humpback whale, Gulf of Maine.
Atlantic blue crab trap/pot | 6,679 | Bottlenose dolphin, Biscayne Bay estuarine.
|  | Bottlenose dolphin, Central FL coastal.
|  | Bottlenose dolphin, Central GA estuarine system.¹
|  | Bottlenose dolphin, Charleston estuarine system.¹
|  | Bottlenose dolphin, Indian River Lagoon estuarine system.
|  | Bottlenose dolphin, Jacksonville estuarine system.
|  | Bottlenose dolphin, Northern FL coastal.¹
|  | Bottlenose dolphin, Northern GA/Southern SC estuarine system.
|  | Bottlenose dolphin, Northern Migratory coastal.
|  | Bottlenose dolphin, Northern NC estuarine system.¹
|  | Bottlenose dolphin, Northern SC estuarine system.
|  | Bottlenose dolphin, SC/GA coastal.
|  | Bottlenose dolphin, Southern GA estuarine system.
|  | Bottlenose dolphin, Southern Migratory coastal.¹
|  | Bottlenose dolphin, Southern NC estuarine system.
|  | West Indian manatee, FL.
Purse Seine Fisheries:
Gulf of Mexico menhaden purse seine | 40-42 | Bottlenose dolphin, GMX bay, sound, estuarine.
|  | Bottlenose dolphin, Mississippi River Delta.
|  | Bottlenose dolphin, Mississippi Sound, Lake Borgne, Bay Boudreau.
|  | Bottlenose dolphin, Northern GMX coastal.¹
|  | Bottlenose dolphin, Western GMX coastal.¹
Mid-Atlantic menhaden purse seine ² | 17 | Bottlenose dolphin, Northern Migratory coastal.
|  | Bottlenose dolphin, Southern Migratory coastal.
Haul/Beach Seine Fisheries:
Mid-Atlantic haul/beach seine | 359 | Bottlenose dolphin, Northern Migratory coastal.¹
|  | Bottlenose dolphin, Northern NC estuarine system.¹
|  | Bottlenose dolphin, Southern Migratory coastal.¹
NC long haul seine | 10 | Bottlenose dolphin, Northern NC estuarine system.¹
|  | Bottlenose dolphin, Southern NC estuarine system.
Stop Seine/Weir/Pound Net:
U.S. Mid-Atlantic mixed species stop seine/weir/pound net (except the NC roe mullet stop net) | unknown | Bottlenose dolphin, Northern NC estuarine system.
Stop Net Fisheries:
NC roe mullet stop net | 1 | Bottlenose dolphin, Northern NC estuarine system.
|  | Bottlenose dolphin, unknown (Southern migratory coastal or Southern NC estuarine system).
Pound Net Fisheries:
VA pound net | 20 | Bottlenose dolphin, Northern migratory coastal.
|  | Bottlenose dolphin, Northern NC estuarine system.
|  | Bottlenose dolphin, Southern Migratory coastal.¹
Category III
Gillnet Fisheries:
Caribbean gillnet | 127 | None documented in the most recent 5 years of data.
DE River inshore gillnet | unknown | None documented in the most recent 5 years of data.
Long Island Sound inshore gillnet | unknown | None documented in the most recent 5 years of data.
RI, southern MA (to Monomoy Island), and NY Bight (Raritan and Lower NY Bays) inshore gillnet | unknown | None documented in the most recent 5 years of data.
Southeast Atlantic inshore gillnet | unknown | Bottlenose dolphin, Northern SC estuarine system.
Trawl Fisheries:
Atlantic shellfish bottom trawl | >58 | None documented.
Gulf of Mexico butterfish trawl | 2 | Bottlenose dolphin, Northern GMX oceanic.
|  | Bottlenose dolphin, Northern GMX continental shelf.
Gulf of Mexico mixed species trawl | 20 | None documented.
GA cannonball jellyfish trawl | 1 | Bottlenose dolphin, SC/GA coastal.
Marine Aquaculture Fisheries:
Finfish aquaculture | 48 | Harbor seal, WNA.
Shellfish aquaculture | unknown | None documented.
Purse Seine Fisheries:
Gulf of Maine Atlantic herring purse seine | >7 | Harbor seal, WNA.
Gulf of Maine menhaden purse seine | >2 | None documented.
FL West Coast sardine purse seine | 10 | None documented.
U.S. Atlantic tuna purse seine * | 5 | None documented in most recent 5 years of data.
Longline/Hook and Line Fisheries:
Northeast/Mid-Atlantic bottom longline/hook-and-line | >1,207 | None documented.
Gulf of Maine, U.S. Mid-Atlantic tuna, shark, swordfish hook-and-line/harpoon | 2,846 | Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | 39 | Bottlenose dolphin, Eastern GMX coastal.
|  | Bottlenose dolphin, Northern GMX continental shelf.
Southeastern U.S. Atlantic, Gulf of Mexico, and Caribbean pelagic hook-and-line/harpoon | 680 | None documented.
U.S. Atlantic, Gulf of Mexico trotline | unknown | Bottlenose dolphin, Galveston Bay, East Bay, Trinity Bay.
Trap/Pot Fisheries:
Caribbean mixed species trap/pot | 154 | Bottlenose dolphin, Puerto Rico and United States Virgin Islands.
Caribbean spiny lobster trap/pot | 40 | None documented.
FL spiny lobster trap/pot | 1,268 | Bottlenose dolphin, Biscayne Bay estuarine.
|  | Bottlenose dolphin, Central FL coastal.
|  | Bottlenose dolphin, Eastern GMX coastal.
|  | Bottlenose dolphin, FL Bay.
|  | Bottlenose dolphin, FL Keys.
Gulf of Mexico blue crab trap/pot | 4,113 | Bottlenose dolphin, Barataria Bay.
|  | Bottlenose dolphin, Caloosahatchee River.
|  | Bottlenose dolphin, Eastern GMX coastal.
|  | Bottlenose dolphin, GMX bay, sound, estuarine.
|  | Bottlenose dolphin, Mississippi Sound, Lake Borgne, Bay Boudreau.
|  | Bottlenose dolphin, Mobile Bay, Bonsecour Bay.
|  | Bottlenose dolphin, Northern GMX coastal.
|  | Bottlenose dolphin, Waccasassa Bay, Withlacoochee Bay, Crystal Bay.
|  | Bottlenose dolphin, Western GMX coastal.
|  | West Indian manatee, FL.
Gulf of Mexico mixed species trap/pot | unknown | None documented.
Southeastern U.S. Atlantic, Gulf of Mexico golden crab trap/pot | 10 | None documented.
U.S. Mid-Atlantic eel trap/pot | unknown | None documented.
Stop Seine/Weir/Pound Net/Floating Trap/Fyke Net Fisheries:
Gulf of Maine herring and Atlantic mackerel stop seine/weir | >1 | Harbor porpoise, GME/BF.
|  | Harbor seal, WNA.
|  | Minke whale, Canadian east coast.
|  | Atlantic white-sided dolphin, WNA.
U.S. Mid-Atlantic crab stop seine/weir | 2,600 | None documented.
RI floating trap | 9 | None documented.
Northeast and Mid-Atlantic fyke net | unknown | None documented.
Dredge Fisheries:
Gulf of Maine sea urchin dredge | unknown | None documented.
Gulf of Maine mussel dredge | unknown | None documented.
Gulf of Maine, U.S. Mid-Atlantic sea scallop dredge | >403 | None documented.
Mid-Atlantic blue crab dredge | unknown | None documented.
Mid-Atlantic soft-shell clam dredge | unknown | None documented.
Mid-Atlantic whelk dredge | unknown | None documented.
U.S. Mid-Atlantic/Gulf of Mexico oyster dredge | 7,000 | None documented.
New England and Mid-Atlantic offshore surf clam/quahog dredge | unknown | None documented.
Haul/Beach Seine Fisheries:
Caribbean haul/beach seine | 38 | West Indian manatee, Puerto Rico.
Gulf of Mexico haul/beach seine | unknown | None documented.
Southeastern U.S. Atlantic haul/beach seine | 25 | None documented.
Dive, Hand/Mechanical Collection Fisheries:
Atlantic Ocean, Gulf of Mexico, Caribbean shellfish dive, hand/mechanical collection | 20,000 | None documented.
Gulf of Maine urchin dive, hand/mechanical collection | unknown | None documented.
Gulf of Mexico, Southeast Atlantic, Mid-Atlantic, and Caribbean cast net | unknown | None documented.
Commercial Passenger Fishing Vessel (Charter Boat) Fisheries:
Atlantic Ocean, Gulf of Mexico, Caribbean commercial passenger fishing vessel | 4,000 | Bottlenose dolphin, Barataria Bay estuarine system.
|  | Bottlenose dolphin, Biscayne Bay estuarine.
|  | Bottlenose dolphin, Central FL coastal.
|  | Bottlenose dolphin, Charleston estuarine system.
|  | Bottlenose dolphin, Choctawhatchee Bay.
|  | Bottlenose dolphin, Eastern GMX coastal.
|  | Bottlenose dolphin, FL Bay.
|  | Bottlenose dolphin, GMX bay, sound, estuarine.
|  | Bottlenose dolphin, Indian River Lagoon estuarine system.
|  | Bottlenose dolphin, Jacksonville estuarine system.
|  | Bottlenose dolphin, Mississippi Sound, Lake Borgne, Bay Boudreau.
|  | Bottlenose dolphin, Northern FL coastal.
|  | Bottlenose dolphin, Northern GA/Southern SC estuarine.
|  | Bottlenose dolphin, Northern GMX coastal.
|  | Bottlenose dolphin, Northern migratory coastal.
|  | Bottlenose dolphin, Northern NC estuarine.
|  | Bottlenose dolphin, Southern migratory coastal.
|  | Bottlenose dolphin, Southern NC estuarine system.
|  | Bottlenose dolphin, SC/GA coastal.
|  | Bottlenose dolphin, Western GMX coastal.
|  | Short-finned pilot whale, WNA.
List of Abbreviations and Symbols Used in Table 2:
DE—Delaware; FL—Florida; GA—Georgia; GME/BF—Gulf of Maine/Bay of Fundy; GMX—Gulf of Mexico; MA—Massachusetts; NC—North Carolina; NY—New York; RI—Rhode Island; SC—South Carolina; VA—Virginia; WNA—Western North Atlantic;
¹ Fishery classified based on mortalities and serious injuries of this stock, which are greater than or equal to 50 percent (Category I) or greater than 1 percent and less than 50 percent (Category II) of the stock's PBR;
² Fishery classified by analogy; and
* Fishery has an associated high seas component listed in table 3.

Table 3—List of Fisheries—Commercial Fisheries on the High Seas
Fishery description | Number of HSFCA permits | Marine mammal species and/or stocks incidentally killed or injured
Category I
Longline Fisheries:
Atlantic Highly Migratory Species * | 30 | Atlantic spotted dolphin, WNA.
|  | Bottlenose dolphin, Northern GMX oceanic.
|  | Bottlenose dolphin, WNA offshore.
|  | Common dolphin, WNA.
|  | Cuvier's beaked whale, WNA.
|  | False killer whale, WNA.
|  | Killer whale, GMX oceanic.
|  | Kogia spp. whale (Pygmy or dwarf sperm whale), WNA.
|  | Long-finned pilot whale, WNA.
|  | Mesoplodon beaked whale, WNA.
|  | Minke whale, Canadian East coast.
|  | Pantropical spotted dolphin, WNA.
|  | Risso's dolphin, GMX.
|  | Risso's dolphin, WNA.
|  | Short-finned pilot whale, WNA.
Western Pacific Pelagic (HI Deep-set component) * ^ | 146 | Bottlenose dolphin, HI Pelagic.
|  | False killer whale, HI Pelagic.
|  | Kogia spp. (Pygmy or dwarf sperm whale), HI.
|  | Risso's dolphin, HI.
|  | Rough-toothed dolphin, HI.
|  | Short-finned pilot whale, HI.
Category II
Drift Gillnet Fisheries:
Pacific Highly Migratory Species * ^ | 2 | Long-beaked common dolphin, CA.
|  | Humpback whale, CA/OR/WA.
|  | Northern right-whale dolphin, CA/OR/WA.
|  | Pacific white-sided dolphin, CA/OR/WA.
|  | Risso's dolphin, CA/OR/WA.
|  | Short-beaked common dolphin, CA/OR/WA.
Trawl Fisheries:
CCAMLR | 0 | Antarctic fur seal.
Purse Seine Fisheries:
Western and Central Pacific Ocean Tuna Purse Seine | 14 | Bottlenose dolphin, unknown.
|  | Blue whale, unknown.
|  | Bryde's whale, unknown.
|  | False killer whale, unknown.
|  | Fin whale, unknown.
|  | Indo-Pacific dolphin.
|  | Long-beaked common dolphin, unknown.
|  | Melon-headed whale, unknown.
|  | Minke whale, unknown.
|  | Pantropical spotted dolphin, unknown.
|  | Risso's dolphin, unknown.
|  | Rough-toothed dolphin, unknown.
|  | Sei whale, unknown.
|  | Short-finned pilot whale, unknown.
|  | Sperm whale, unknown.
|  | Spinner dolphin, unknown.
Western Pacific Pelagic | 0 | No information.
Longline Fisheries:
CCAMLR | 0 | None documented.
South Pacific Albacore Troll | 6 | No information.
Western Pacific Pelagic (HI Shallow-set component) * ^ | 14 | Bottlenose dolphin, HI Pelagic.
|  | False killer whale, HI Pelagic.
|  | Guadalupe fur seal.
|  | Risso's dolphin, HI.
|  | Striped dolphin, HI.
Handline/Pole and Line Fisheries:
Atlantic Highly Migratory Species | 0 | No information.
Pacific Highly Migratory Species | 36 | No information.
South Pacific Albacore Troll | 1 | No information.
Western Pacific Pelagic | 1 | No information.
Troll Fisheries:
Atlantic Highly Migratory Species | 0 | No information.
South Pacific Albacore Troll | 23 | No information.
Western Pacific Pelagic | 6 | No information.
Category III
Longline Fisheries:
Northwest Atlantic Bottom Longline | 1 | None documented.
Pacific Highly Migratory Species | 119 | None documented in the most recent 5 years of data.
Purse Seine Fisheries:
Pacific Highly Migratory Species * ^ | 1 | None documented.
Trawl Fisheries:
Northwest Atlantic | 1 | None documented.
Troll Fisheries:
Pacific Highly Migratory Species * | 95 | None documented.
List of Terms, Abbreviations, and Symbols Used in Table 3:
CA—California; GMX—Gulf of Mexico; HI—Hawaii; OR—Oregon; WA—Washington; WNA—Western North Atlantic;
* Fishery is an extension/component of an existing fishery operating within U.S. waters listed in table 1 or 2. The number of permits listed in table 3 represents only the number of permits for the high seas component of the fishery; and
^ The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I: Mid-Atlantic gillnet. Northeast/Mid-Atlantic American lobster and Jonah crab trap/pot. Northeast sink gillnet.
| Category II: Atlantic blue crab trap/pot. Atlantic mixed species trap/pot. MA mixed species trap/pot. Northeast drift gillnet. Southeast Atlantic gillnet. Southeastern U.S. Atlantic shark gillnet.* Southeastern, U.S. Atlantic, Gulf of Mexico stone crab trap/pot.^
Bottlenose Dolphin Take Reduction Plan (BDTRP)—50 CFR 229.35 | Category I: Mid-Atlantic gillnet.
| Category II: Atlantic blue crab trap/pot. Chesapeake Bay inshore gillnet fishery. Mid-Atlantic haul/beach seine. Mid-Atlantic menhaden purse seine. NC inshore gillnet. NC long haul seine. NC roe mullet stop net. Southeast Atlantic gillnet. Southeastern U.S. Atlantic shark gillnet. Southeastern U.S. Atlantic, Gulf of Mexico shrimp trawl.^ Southeastern, U.S. Atlantic, Gulf of Mexico stone crab trap/pot.^ U.S. Mid-Atlantic mixed species stop seine/weir/pound net (except the NC roe mullet stop net). VA pound net.
False Killer Whale Take Reduction Plan (FKWTRP)—50 CFR 229.37 | Category I: HI deep-set longline.
| Category II: HI shallow-set longline.
Harbor Porpoise Take Reduction Plan (HPTRP)—50 CFR 229.33 (New England) and 229.34 (Mid-Atlantic) | Category I: Mid-Atlantic gillnet. Northeast sink gillnet.
Pelagic Longline Take Reduction Plan (PLTRP)—50 CFR 229.36 | Category I: Atlantic Ocean, Caribbean, Gulf of Mexico large pelagics longline.
Pacific Offshore Cetacean Take Reduction Plan (POCTRP)—50 CFR 229.31 | Category II: CA thresher shark/swordfish drift gillnet (≥14 in mesh).
Atlantic Trawl Gear Take Reduction Team (ATGTRT) | Category II: Mid-Atlantic bottom trawl. Mid-Atlantic mid-water trawl (including pair trawl). Northeast bottom trawl. Northeast mid-water trawl (including pair trawl).
List of Symbols Used in Table 4:
* Only applicable to the portion of the fishery operating in U.S. waters; and
^ Only applicable to the portion of the fishery operating in the Atlantic Ocean.

Classification

The Chief Counsel for Regulation of the Department of Commerce certified to the Chief Counsel for Advocacy of the Small Business Administration (SBA) that this proposed rule would not have a significant economic impact on a substantial number of small entities. Any entity with combined annual fishery landing receipts less than $11 million is considered a small entity for purposes of the Regulatory Flexibility Act. Under the size standard, all entities subject to this action were considered small entities; thus, they all would continue to be considered small under the new standards.

Under existing regulations, all individuals participating in Category I or II fisheries must register under the MMPA and obtain an authorization certificate. The authorization certificate authorizes the taking of marine mammals incidental to commercial fishing operations under the MMPA. Additionally, individuals may be subject to a TRP and requested to carry an observer. NMFS has estimated that up to approximately 49,014 fishing vessels, most with annual revenues below the SBA's small entity thresholds, may operate in Category I or II fisheries. As fishing vessels operating in Category I or II fisheries, they are required to register with NMFS. The MMPA registration process is integrated with existing state and Federal licensing, permitting, and registration programs. Therefore, individuals who have a state or Federal fishing permit or landing license, or who are authorized through another related state or Federal fishery registration program, are currently not required to register separately under the MMPA or pay the $25 registration fee. Through this integrated process, registration under the MMPA, including the $25 registration fee, is only required for vessels participating in a Category I or II non-permitted fishery. All Category I and II fisheries listed on the 2024 proposed LOF are permitted through state or Federal processes, and registration under the MMPA is covered through the integrated process. Therefore, this proposed rule would not impose any direct costs on small entities.

The MMPA requires any vessel owner or operator participating in a fishery listed on the LOF to report to NMFS, within 48 hours of the end of the fishing trip, all marine mammal incidental mortalities and injuries that occur during commercial fishing operations. These marine mammal mortalities and injuries are reported using a postage-paid, Office of Management and Budget (OMB) approved form (OMB Control Number 0648-0292). This postage-paid form requires less than 15 minutes to complete and can be dropped in any mailbox, faxed, emailed, or completed online within 48 hours of the vessel's return to port. Therefore, recordkeeping and reporting costs associated with this LOF are minimal and would not have a significant impact on a substantial number of small entities.

If a vessel is requested to carry an observer, vessels will not incur any direct economic costs associated with carrying that observer. As a result of this certification, an initial regulatory flexibility analysis is not required and none has been prepared. In the event that reclassification of a fishery to Category I or II results in a TRP, economic analyses of the effects of that TRP would be summarized in subsequent rulemaking actions.

This proposed rule contains existing collection-of-information (COI) requirements subject to the Paperwork Reduction Act and would not impose additional or new COI requirements. The COI for the registration of individuals under the MMPA has been approved by the OMB under OMB Control Number 0648-0293 (0.15 hours per report for new registrants). The requirement for reporting marine mammal mortalities or injuries has been approved by OMB under OMB Control Number 0648-0292 (0.15 hours per report). These estimates include the time for reviewing instructions, searching existing data sources, gathering and maintaining the data needed, and completing and reviewing the COI. Send comments regarding these reporting burden estimates or any other aspect of the COI, including suggestions for reducing burden, to NMFS (see ADDRESSES). You may also submit comments on these or any other aspects of the collection of information at https://www.reginfo.gov/public/do/PRAMain.

Notwithstanding any other provision of law, no person is required to respond to, nor shall a person be subject to a penalty for failure to comply with a COI, subject to the requirements of the Paperwork Reduction Act, unless that COI displays a currently valid OMB control number.

This proposed rule has been determined to be not significant for the purposes of Executive Orders 12866 and 13563.

In accordance with the Companion Manual for NOAA Administrative Order (NAO) 216-6A, NMFS determined that publishing this proposed LOF qualifies to be categorically excluded from further NEPA review, consistent with categories of activities identified in Categorical Exclusion G7 (“Preparation of policy directives, rules, regulations, and guidelines of an administrative, financial, legal, technical, or procedural nature, or for which the environmental effects are too broad, speculative or conjectural to lend themselves to meaningful analysis and will be subject later to the NEPA process, either collectively or on a case-by-case basis”) of the Companion Manual and we have not identified any extraordinary circumstances listed in Chapter 4 of the Companion Manual for NAO 216-6A that would preclude application of this categorical exclusion. If NMFS takes a management action, for example, through the development of a TRP, NMFS would first prepare an Environmental Impact Statement or Environmental Assessment, as required under NEPA, specific to that action.

This proposed rule would not affect species listed as threatened or endangered under the ESA or their associated critical habitat. The impacts of numerous fisheries have been analyzed in various biological opinions, and this proposed rule will not affect the conclusions of those opinions. The classification of fisheries on the LOF is not considered to be a management action that would adversely affect threatened or endangered species. If NMFS takes a management action, for example, through the development of a TRP, NMFS would consult under ESA section 7 on that action.

This proposed rule would have no adverse impacts on marine mammals and may have a positive impact on marine mammals by improving knowledge of marine mammals and the fisheries interacting with marine mammals through information collected from observer programs, stranding and sighting data, or take reduction teams.

This proposed rule would not affect the land or water uses or natural resources of the coastal zone, as specified under section 307 of the Coastal Zone Management Act.

References

Carretta, J.W., J. Greenman, K. Wilkinson, L. Saez, D. Lawson and J. Viezbicke. In Review. Sources of human-related injury and mortality for U.S. Pacific west coast marine mammal stock assessments, 2017-2021.

Carretta, J.W., E.M. Oleson, K.A. Forney, M.M. Muto, D.W. Weller, A.R. Lang, J. Baker, B. Hanson, A.J. Orr, J. Barlow, J.E. Moore, and R.L. Brownell. 2023. U.S. Pacific Marine Mammal Stock Assessments: 2022. U.S. Department of Commerce. NOAA Technical Memorandum NMFS-SWFSC-684.409 p.

Freed, J.C., N.C. Young, B.J. Delean, V.T. Helker, M.M. Muto, K.M. Savage, S.S. Teerlink, L.A. Jemison, K.M. Wilkinson, and J.E. Jannot. 2022. Human-Caused Mortality and Injury of NMFS-Managed Alaska Marine Mammal Stocks, 2016-2020. U.S. Department of Commerce. NOAA Tech. Memo. NMFS-AFSC-442, 116 p.

Hayes, S.A., E. Josephson, K. Maze-Foley, P.E. Rosel and J. Wallace. Editors. 2023. U.S. Atlantic and Gulf of Mexico Marine Mammal Stock Assessments 2022. U.S. Department of Commerce. NOAA Technical Memorandum NMFS-NE-304. 262 p.

Hayes, S.A., E. Josephson, K. Maze-Foley, P.E. Rosel and J. Wallace. Editors. 2022. U.S. Atlantic and Gulf of Mexico Marine Mammal Stock Assessments 2021. U.S. Department of Commerce, NOAA Technical Memorandum. 386 p.

Maze-Foley, K. and L.P. Garrison. In Prep. Serious Injury Determinations for Small Cetaceans off the Southeast U.S. Coast, 2017-2021.

Young, N.C., M.M. Muto, V.T. Helker, B.J. Delean, N.C. Young, J.C. Freed R.P. Angliss, N.A. Friday, P.L. Boveng, J.M. Breiwick, B.M. Brost, M.F. Cameron, P.J. Clapham, J.L. Crance, S.P. Dahle, M.E. Dahlheim, B.S. Fadely, M.C. Ferguson, L.W. Fritz, K.T. Goetz, R.C. Hobbs, Y.V. Ivashchenko, A.S. Kennedy, J.M. London, S.A. Mizroch, R.R. Ream, E.L. Richmond, K.E.W. Shelden, K.L. Sweeney, R.G. Towell, P.R. Wade, J.M. Waite, and Alexandre N. Zerbini. 2023. Alaska Marine Mammal Stock Assessments 2022. U.S. Department of Commerce. NOAA Technical Memorandum NMFS-AFSC-474, 316 p.

Dated: September 7, 2023.
Samuel D. Rauch, III,
Deputy Assistant Administrator for Regulatory Programs, National Marine Fisheries Service.

[FR Doc. 2023-19721 Filed 9-12-23; 8:45 am]

BILLING CODE 3510-22-P